DEPARTMENT OF COMMERCE

Bureau of the Census

15 CFR Part 30

[Docket Number 100318153-3158-02]

RIN 0607-AA50

Foreign Trade Regulations: Mandatory Automated Export System Filing for All Shipments Requiring Shipper's Export Declaration Information

AGENCY: Bureau of the Census, Commerce Department.

ACTION: Final rule.

SUMMARY: The Bureau of the Census (Census Bureau) is amending its regulations to reflect new export reporting requirements. Specifically, the Census Bureau is requiring mandatory filing of export information through the Automated Export System (AES) or through AESDirect for all shipments of used self-propelled vehicles and temporary exports. In addition to adopting new export reporting requirements and modifying the postdeparture filing program, the Census Bureau is making remedial changes to the FTR to improve clarity and to correct errors.

DATES: This final rule is effective January 8, 2014, except for § 30.6(a)(24) and (b)(15) containing information collection requirements that have not yet been approved by the Office of Management and Budget (OMB) under the Paperwork Reduction Act (PRA). When OMB approval is received, the Census Bureau will publish a document in the Federal Register.

FOR FURTHER INFORMATION CONTACT: Nick Orsini, Chief, Foreign Trade Division, U.S. Census Bureau, Room 6K032, Washington, DC 20233-6010, by phone (301) 763-6959, by fax (301) 763-6638, or by email (nick.orsini@census.gov).

SUPPLEMENTARY INFORMATION:

Background

The Census Bureau is responsible for collecting, compiling, and publishing export trade statistics for the United States under the provisions of Title 13, United States Code (U.S.C.), Chapter 9, Section 301. The AES is the primary instrument used for collecting export trade data, which is used by the Census Bureau for statistical purposes only. Through the AES, the Census Bureau collects Electronic Export Information (EEI), the electronic equivalent of the export data formerly collected on the Shipper's Export Declaration, reported pursuant to Title 15 Code of Federal Regulations (CFR) Part 30. The EEI consists of data elements set forth at 15 CFR 30.6 for an export shipment, and includes information such as the exporter's personal identifying information, which includes name, address and identification number, and detailed information concerning the exported product. Other Federal government agencies use the EEI for export control purposes to detect and prevent the export of certain items by unauthorized parties or to unauthorized destinations or end users. The EEI is exempt from public disclosure unless the Secretary of Commerce determines under the provisions of Title 13, U.S.C., Chapter 9, Section 301(g), that such exemption would be contrary to the national interest.

In August 2003, the Census Bureau, in agreement with U.S. Customs and Border Protection (CBP), placed a moratorium on accepting new applications for Postdeparture filing. The Census Bureau and CBP plan to continue the moratorium on accepting new applications pending the development of a program to collect advanced export information that will continue to facilitate trade and address national security concerns. The Census Bureau is modifying the existing postdeparture filing program for current approved filers.

Response to Comments

The Census Bureau received 53 letters and/or emails commenting on the Notice of Proposed Rulemaking (NPRM) published in the Federal Register on January 21, 2011, (76 FR 4002). All the letters and/or emails contained comments on two or more issues. A summary of the comments and the Census Bureau's responses are provided below.

The major concerns were as follows:

1. Amend the proposed rule to remove the requirement for reporting the Country of Origin. Several commentors were concerned that they would have to install costly automated systems to calculate and classify all components that go into the exported product, or institute a manual procedure to generate the necessary information. The Census Bureau has removed the requirement to report the country of origin because of the significant cost and burden the trade community would incur as a result of this requirement.

2. Amend the proposed rule to remove the equipment number as a conditional data element. Commentors were concerned that the equipment number may not be available at the time of filing and as a result would create a burden to the trade community. The Census Bureau agrees with the commentors; therefore, this information will remain an optional reporting field.

3. Amend the proposed rule to remove the requirement to report household goods regardless of value and destination. Commentors were concerned that this requirement would increase burden to the trade by requiring filing for shipments that are exempt based on the low value exemption or the exemption for non-licensed shipments to Canada. Commentors were also concerned that the new definition was too broad. The Census Bureau has reviewed this section and determined that the previous regulations remain appropriate. Filing will be required for household goods that are over $2,500 and are destined for countries other than Canada. In addition, the Census Bureau revised the definition of household goods to add clarity.

4. Clarify that the changes to the Foreign Trade Regulations will not adversely affect the President's National Export Initiative. Commentors were concerned that the proposed postdeparture changes would impede the President's National Export Initiative (NEI). The Census Bureau supports the President's National Export Initiative and does not want to impede the export process. We reviewed all comments and after consideration, have excluded several of the proposed requirements to reduce the burden placed on the trade community. The Census Bureau's goal is to continue collecting accurate and timely statistics as well as address the enforcement and security concerns of CBP, the Bureau of Industry and Security (BIS), and the U.S. Department of State. The Census Bureau has determined that these goals complement the President's National Export Initiative.

5. Clarify that an Automated Export System (AES) filing is required for repairs and replacements when valued over $2,500 per Schedule B number, or when a license or Department of Defense Trade Controls (DDTC) exemption is required. The commentors requested clarification on whether an AES filing was required regardless of value for repairs and replacements. The requirement for filing an EEI record for repairs and replacements has not changed. The Census Bureau added “If the value of parts and labor is over $2,500 per Schedule B, or a license or DDTC license exemption statement is required, the EEI must be filed,” to clarify that the filing is only required when the value of repairs and replacement parts is over $2,500.

6. Amend the proposed rule to remove the seal number as a conditional data element. Commentors stated that it would be extremely difficult to obtain the seal number prior to exportation. The Census Bureau conferred with trade groups who verified that the seal number may not be available at the time of filing. Therefore, this information will remain an optional reporting field.

7. Amend the proposed rule to remove the requirement to report the Transportation Reference Number (TRN) for air shipments. Commentors were concerned that the TRN would not be available since it is not a common practice for air shipments to have an advance booking. The Census Bureau conferred with trade groups who verified that the TRN is not available at the time of filing; therefore, reporting the TRN will remain optional.

8. Clarify that the reuse of the Shipment Reference Number (SRN) is prohibited. Commentors were concerned that the trade currently reuses the same SRN for internal purposes and would like the ability to reuse the same SRN for AES purposes. The Census Bureau recognizes that the trade community may continue to use the same SRN for internal purposes. However, an analysis of the AES confirmed that the system is not configured to allow the reuse of the SRN, and the SRN cannot be reused.

9. Amend the proposed rule to remove the requirement to report the address of the license applicant. A commentor is concerned that the Census Bureau is requiring information that is available in the licensing database. The Census Bureau acknowledges that this information is collected in the export control licensing system and will remove the requirement to report the address of the license applicant. Therefore, the Census Bureau will eliminate the license applicant in the Final Rule.

10. Amend a number of definitions in the definition section of the proposed rule. Several commentors proposed changes to definitions contained in the NPRM. The Census Bureau revised the following definitions in § 30.1:

AES downtime filing citation. The Census Bureau revised this definition to clarify that the downtime citation cannot be used when the filer's system is down or experiences delays.

Annotation. The Census Bureau revised this definition by adding the word “commercial” prior to the words “loading documents.”

Automated Export System Trade Interface Requirements (AESTIR). The Census Bureau revised this definition by adding the word “technical” to clarify that the document also includes technical requirements.

Automated Foreign Trade Zone Reporting Program (AFTZRP). The Census Bureau deleted this definition because the program is no longer in existence.

Country of ultimate destination. The Census Bureau revised this definition to include reference to § 30.6(a)(5).

Diplomatic pouch. The Census Bureau added this definition as a result of internal agency review.

Electronic CBP Form 214 Admissions (e214). The Census Bureau added this definition to clarify the electronic submission of Foreign Trade Zone information replaced the AFTZRP.

Export value. This term was changed to “value” and moved alphabetically in § 30.1.

Filers. The Census Bureau revised this definition to remove the word “system” after the acronym “AES.”

Filer ID. The Census Bureau added this definition as a result of internal agency review.

Foreign exports. The Census Bureau revised this definition to clarify that goods can also be admitted to a U.S. Foreign Trade Zone.

Foreign port of unlading. The Census Bureau added this definition as a result of internal agency review.

Foreign principal party in interest (FPPI). The Census Bureau revised this definition to clarify that the FPPI is the party that purchases the goods.

Foreign Trade Zone (FTZ). The Census Bureau revised this definition to clarify that goods can also be manufactured in an FTZ.

Harmonized Tariff Schedule of the United States Annotated (HTSUSA). The Census Bureau revised this definition to include the correct title and abbreviation and remove references to CBP since it is not the only agency that uses the HTSUSA.

Household goods. The Census Bureau added this definition as a result of internal agency review.

International Waters. The Census Bureau added this definition as a result of internal agency review.

Issued banknotes. The Census Bureau added this definition as a result of internal agency review.

Kimberley Process Certificate (KPC). The Census Bureau added this definition to account for this document since it is used to certify the origin of rough diamonds from sources which are free of conflict.

Loading document. This term was changed to “commercial loading document” and moved accordingly.

Mass-market software. The Census Bureau added this definition as a result of internal agency review.

Method of Transportation. The Census Bureau revised this definition to include shipments via mail as a method of transportation.

Non-Vessel Operating Common Carrier (NVOCC). The Census Bureau added this definition as a result of internal agency review.

Port of export. The Census Bureau revised this definition to clarify what port is required to be reported for transshipments through Canada or Mexico.

Postdeparture filing. The Census Bureau revised this definition to clarify that the postdeparture filing time frame is changed from ten (10) calendar days to five (5).

Power of attorney. The Census Bureau revised this definition to include a reference to Appendix A.

Shipment. The Census Bureau revised this definition to clarify that except as noted in § 30.2(a)(1)(iv), the EEI shall be filed when the value of the goods is over $2,500 per Schedule B number.

Shipment reference number. The Census Bureau revised this definition to clarify that the reuse of the shipment reference number is prohibited.

Shipper's Export Declaration (SED). The Census Bureau revised this definition to clarify the date the paper SED became obsolete.

Shipping documents. The Census Bureau added this definition to clarify what is considered a shipping document for purposes of retaining required documents for five years and reporting proof of filing citations and exemption legends.

Split shipment. The Census Bureau revised this definition to clarify that split shipments apply to all modes of transportation and that all parts of a shipment must leave within 24 hours from the same port.

Transshipment. The Census Bureau added this definition as a result of internal agency review.

U.S. Customs and Border Protection. The Census Bureau revised this definition to correct errors in grammar.

Voluntary Self-Disclosure (VSD). The Census Bureau added this definition as a result of internal agency review.

Written Authorization. The Census Bureau revised this definition to include reference to Appendix A.

11. Clarify whether an exemption can be used for goods destined to Country Group E:1. Several commentors requested further clarification as to whether an exemption can be used for these types of shipments. Certain shipments destined to Country Group E:1 are exempt from AES filing per 15 CFR 740 of the Export Administration Regulations (EAR). The Census Bureau has revised § 30.2(a)(1)(iv) to add a note clarifying that the filing requirement for certain shipments destined to Country Group E:1 are located in § 30.16.

12. Amend the proposed rule to eliminate the requirement to report the exclusion legend. Several commentors were concerned that if the exclusion legend is not required to be noted on the bill of lading or other commercial loading documents, carriers would not be able to recognize if the shipment was annotated properly. They were concerned that this new requirement could potentially lead to violations of the Foreign Trade Regulations (FTR) which would ultimately result in penalties for all parties involved. Commentors recommend that the exclusion legend remain a requirement. The Census Bureau and CBP have reviewed this requirement and agree with the commenters that this requirement should not be changed, therefore the previous regulations remain appropriate.

13. Amend the proposed rule to revise the definition of a split shipment to clarify that split shipments apply to all modes of transportation and that all parts of a shipment must leave within 24 hours from the same port of export. Several commentors were concerned that the changes to the split shipment requirement would increase the burden on the trade because multiple shipments would have to be filed after the initial shipment is exported. The Census Bureau revised the split shipment definition to remove the burden of having to file for multiple shipments that have been split by the carrier and are departing from the same port within 24 hours of each other. The new definition will reflect that after the first part of the shipment has been exported; all the succeeding parts must be exported within 24 hours. The commentors were also concerned that the carriers would be burdened with notifying USPPIs and filers of the changes to the shipment information. The Census Bureau reviewed this part and found that the requirement to notify the USPPI or filer of changes to the transportation information has not changed from the previous regulations and remains appropriate.

14. Amend the proposed rule to include a mandatory filing requirement for ultimate consignee type. Several commentors were concerned with reporting the ultimate consignee type because the ultimate consignee may be a party other than a Reseller, Government Reseller, or Government Consumer. Also, the commentors were concerned that the ultimate consignee type may be unknown at the time of export. The Census Bureau acknowledges that the ultimate consignee type may be unknown or other. Therefore, the Census Bureau modified the requirement to include Other/Unknown as reporting options for the ultimate consignee type. This is a new mandatory filing requirement and has been added as § 30.6(a)(24).

15. Clarify the carrier responsibilities in an export transaction. Several commentors requested clarification on how carriers are to determine changes to commodity information as well as identify the party who filed in order to provide them with changes. The Census Bureau understands that the carrier may not know the commodity information. The Census Bureau has reviewed this section and has revised § 30.3(c)(3)(iv) to indicate the carrier is only responsible for providing and notifying the USPPI or Authorized Agent of changes to the transportation data.

16. Clarify how the carrier is to amend the manifest when the manifest is not required to be filed until four days after the date of export. Commentors were concerned that when identifying a portion of the goods covered by a single EEI transaction that has not been exported on the intended conveyance that they could not immediately notify the CBP Director and amend the manifest because the carrier files the manifest four days after the export departure date. The Census Bureau has reviewed this section and has revised § 30.3(c)(3)(iv) to indicate that manifest amendments must be made in accordance with CBP regulations.

17. Clarify that licensed goods where the country of ultimate destination is the United States are outside the scope of the FTR. Commentors requested clarification on how a carrier would be able to identify that the person(s) or entity assuming control of the item(s) is a citizen or permanent resident alien of the United States or a juridical entity organized under the laws of the United States or a jurisdiction within the United States. The Census Bureau has reviewed these comments and has determined that there are no significant procedural requirements for carriers regarding their responsibility for ensuring that export documentation has the required citations. As noted above, shipments where the country of ultimate destination is the United States are outside the scope of the FTR.

18. Amend the proposed rule to remove the requirement to report the end user. Several commentors were concerned that they would have to incur costly programming changes in order to capture the end user information. In addition, commentors were concerned that the information is not always available. The Census Bureau acknowledges that this information is collected in the export control licensing system; therefore, the Census Bureau eliminated the requirement to report the end user in the Final Rule.

19. Clarify the commodity based requirement for postdeparture reporting. Several Commenters were concerned about the limited commodities available for postdeparture reporting. The commentors requested additions to the commodities available for the postdeparture privilege. The Census Bureau has reviewed these comments and has agreed with the CBP to revise § 30.5. The proposed commodity based postdeparture program is not going to be implemented. However, the Census Bureau and CBP have agreed to continue the moratorium on accepting new applications for postdeparture filing, pending the development of a program to collect advanced export information that will continue to facilitate trade and address national security concerns. Based on the results, the Census Bureau and CBP will issue new guidelines on the application process for postdeparture filing.

20. Clarify the requirement to report postdeparture shipments no later than five (5) calendar days from the date of export. Several commentors were concerned the filing requirement to report the export information in the AES no later than five (5) calendar days from the date of export did not give filers enough time to file the EEI. The Census Bureau reviewed the AES data and found that only a small percentage of approved postdeparture USPPIs reported their EEI after five (5) calendar days. The Census Bureau and the CBP have reviewed this section of the NPRM and determined that the requirement to file the EEI for postdeparture shipments within five (5) days from the date of export remains appropriate.

21. Clarify that the moratorium on postdeparture applications will be lifted. Several commentors wanted clarification on the existing moratorium on the postdeparture filing program. The Census Bureau and CBP have agreed to continue the moratorium on accepting new applications for postdeparture filing, pending the development of a program to collect advanced export information that will continue to facilitate trade and address national security concerns.

22. Clarify in the proposed rule that the filing timeframe for submitting manifests to CBP is within four calendar days of departure. Commentors requested clarification on the filing timeframe for filing citations, exemptions, and submitting manifests to the CBP. The Census Bureau reviewed the request and § 30.47 was revised to clarify that all required filing citations and/or exemption legends must be submitted by the carrier at the port of exit in accordance with all applicable requirements under the CBP regulations.

23. Clarify the filing requirement for used self-propelled vehicles. Several commentors requested clarification on the requirement to file EEI for used self-propelled vehicles regardless of value and destination. The Census Bureau has reviewed the NPRM regarding this requirement and determined that there will be no exemptions to this requirement. Several commentors were also concerned about the use of the Manufacturer's Statement of Origin Certificates (MSOs) and being able to use this documentation in order to be exempt from filing requirements. The Census Bureau acknowledges this concern and forwarded this comment to the CBP for consideration.

Changes to the Proposed Rule Made by This Final Rule

After consideration of the comments received, the Census Bureau revised certain provisions and added several provisions in the Final Rule to address the concerns of the commentors and to clarify the requirements of the rule. The changes made in this Final Rule are as follows:

• Section 30.1(c) is amended by adding the definition of “Kimberley Process Certificate (KPC)” to clarify the use of the term in the FTR.

• Section 30.2(a)(1)(iv) is amended by deleting the revised end user definition as a result of the elimination of the end user requirement; therefore, the current FTR definition remains appropriate.

• Section 30.2(a)(1)(iv) is amended by adding paragraph (E) for shipments licensed by the Nuclear Regulatory Commission (NRC). This change was made to provide clarity that shipments licensed by NRC must be filed via the AES.

• Section 30.2(a)(1)(iv) is amended by adding a clarifying note to (a)(1)(iv) for filing requirements for shipments destined for a country in Country Group E:1 as set forth in the Supplement No. 1 to 15 CFR part 740. This change was made to provide clarity and ensure consistency with the EAR.

• Section 30.4(a)(8) is amended to clarify that all shipments that require a license from the BIS and exports listed under BIS's grounds for denial of postdeparture filing status set forth in 15 CFR § 758.2 must be filed predeparture. This change was made to provide clarity.

• Section 30.4(a) is amended by adding the requirement that shipments licensed by the NRC must be filed predeparture. This change was made to provide clarity and consistency.

• Section 30.4(c) is amended by modifying the filing timeframe for postdeparture shipments from ten calendar days to five calendar days from the date of export. This change is in response to concerns addressed in item 20 in the “Response to Comments” section.

• Section 30.5 is amended by modifying the existing postdeparture filing program. However, the moratorium on accepting new applications will remain in effect pending the development of a new postdeparture program.

• Section 30.5 is amended by removing the requirement that postdeparture reporting will only be permitted for commodities on the approved list for postdeparture filing. This change is in response to concerns addressed in item 19 in the “Response to Comments” section.

• Section 30.5(c)(3) is amended by adding a section to clarify that the Census Bureau may revoke postdeparture privileges of an approved USPPI if it exports commodities that must be filed predeparture. This change was made during internal agency review.

• Section 30.6(a) is amended by adding a new filing requirement for ultimate consignee type. The ultimate consignee types are: Direct consumer, Government Entity, Other and Unknown. This change is in response to concerns addressed in item 14 in the “Response to Comments” section.

• Section 30.6(b)(1) is amended to clarify that an authorized agent should be listed in the AES when they prepare and file the EEI or are named on the export license. This change was made during internal agency review.

• Section 30.6(b)(3) is amended by adding the words “7-digit alphanumeric identifier.” This change was made during internal agency review.

• Sections 30.7(c) and 30.50(b) are amended to reflect that the Kimberley Process Certificate must be faxed to the Census Bureau prior to export. This change was made during internal agency review.

• Section 30.9(b) is amended to clarify that failure to respond to fatal error messages for shipments filed will subject the USPPI or authorized agent to penalties. This change was made to provide clarity.

• Section 30.16 is amended by adding paragraph (c) to include the requirement to place certain export information on export control documents for shipments that are exempt from filing in the AES. This change was made during internal agency review.

• Section 30.16 is amended by adding paragraph (d) to include the filing requirements for shipments destined for a country listed in Country Group E:1 as set forth in Supplement No. 1 to 15 CFR part 740. This language is also referenced in the note to § 30.2 (a)(1)(iv). For shipments destined for a country listed in Country Group E:1 the EEI is required regardless of value unless such shipment is eligible for one or more of the exemptions in § 30.37(y) and does not require a license by any other Federal Government Agency. This change was made during internal agency review.

• Section 30.16 is amended by adding paragraph (e) for goods licensed by the BIS where the country of ultimate destination is the United States. This change was made during internal agency review.

• Section 30.26 is amended to clarify filing requirements for shipments of vessels, aircraft, cargo vans, and other carriers and containers. This change was made to provide clarity and consistency.

• Section 30.28 is amended to clarify that split shipments now include all modes of transportation and that all parts of a shipment must leave within 24 hours from the same port. This change is in response to concerns addressed in item 13 in the “Response to Comments” section.

• Section 30.29 is amended to clarify the value to be reported for United States Munitions List (USML) and non-USML shipments of goods previously imported for repair, alteration, or replaced under warranty.

• Section 30.37 is amended by removing and reserving paragraphs (e), (q) and (r). This change was made to eliminate costly programming changes.

• Section 30.37 is amended by revising paragraphs (h) to clarify the specific section of the EAR that provides requirements for a license exception for gift parcels and humanitarian donations (GFT). This change was made during internal agency review.

• Section 30.37 is amended by adding paragraphs (u), (v), (w), (x) and (y) to clarify that exports of technical data and defense service items; vessels, aircraft, cargo vans, and other carriers and containers when shipping as instruments of international traffic; shipments via Army Post Office, Diplomatic Post Office and Fleet Post Office shipments, shipments exported under a license exception for baggage (BAG); and certain shipments destined to Country Group E:1 that have been identified by the BIS are exempt from the EEI filing requirements. This change was made during internal agency review.

• Sections 30.47(a), (a)(1) and (a)(2) are amended to clarify that the carrier must file the manifest and all required filing citations and/or exemption legends in accordance with the CBP regulations. This change is in response to concerns addressed in item 22 in the “Response to Comments” section.

Program Requirements

To comply with the requirements of the Foreign Relations Authorization Act, Public Law 107-228, the Census Bureau is amending relevant sections of the FTR to correct or clarify export reporting requirements.

The Census Bureau amended the following sections of the FTR:

• Revise the table of contents entry for § 30.28 by removing the quotations and the words “by air” because split shipments applies to all modes of transportation.

• Revise § 30.1(c) to add the terms and definitions for “Commercial loading document,” “Diplomatic pouch,” “Electronic CBP Form 214 Admissions (e214),” “Filer ID,” “Foreign port of unlading,” “Household goods,” “International waters,” “Issued banknote,” “Mass-market software,” “Non Vessel Operating Common Carrier (NVOCC),” “Shipping documents,” “Transshipment,” “Value,” and “Voluntary Self-Disclosure” to clarify the use of these terms in the FTR.

• In § 30.1(c), revise the definition for “AES downtime filing citation” to clarify that the downtime citation cannot be used when the filer's system is down or experiences delays.

• In § 30.1(c), revise the definition for “Annotation” by adding the word “commercial” prior to the words “loading documents.” This revision is necessary to note that the FTR only references commercial loading documents; therefore, the word “commercial” is added before all references to the words “loading documents.”

• In § 30.1(c), revise the definition for “Automated Export System Trade Interface Requirements (AESTIR)” to clarify that the document also includes technical requirements.

• In § 30.1(c), remove the definition for “Automated Foreign Trade Zone Reporting Program (AFTZRP)” because the program is no longer in existence. The definition for “Electronic CBP Form 214 Admissions (e214)” is added to replace the AFTZRP.

• In § 30.1(c), add the term and definition “Commercial loading document” because the FTR only references commercial loading documents. Therefore, the term and definition for “Loading document” is removed from this section.

• In § 30.1(c), revise the definition for “Country of ultimate destination” to reference § 30.6(a)(5).

• In § 30.1(c), remove the term and definition “Export value” because this term is not used in the FTR and cite the term and definition “Value”.

• In § 30.1(c), revise the definition for “Filers” to remove the word “system” after the acronym “AES.”

• In § 30.1(c), add the definition for “Filer ID” to clarify how the FTR uses the term.

• In § 30.1(c), revise the definition for “Foreign exports” to clarify that goods are admitted, rather than entered, to a U.S. FTZ.

• In § 30.1(c), revise the definition for “Foreign principal party in interest (FPPI)” to clarify that the FPPI is the party that purchases the goods for export or to whom final delivery will be made or is end-user of the goods.

• In § 30.1(c), revise the definition for “Foreign Trade Zone (FTZ)” to clarify that goods can also be manufactured in a FTZ.

• In § 30.1(c), amend the proposed rule to include the definition of “Kimberley Process Certificate (KPC)” for clarity.

• In § 30.1(c), revise the term and definition for “Harmonized Tariff Schedule of the United States Annotated (HTSUSA)” to include the correct title and abbreviation and remove references to CBP since it is not the only agency that uses the HTSUSA.

• In § 30.1(c), revise the definition for “Method of Transportation” to include mail as a method of transportation.

• In § 30.1(c), revise the definition for “Port of export” to clarify the port for transshipments through Canada or Mexico.

• In § 30.1(c), revise the definition for “Postdeparture filing” to clarify that the postdeparture filing time frame is changed from ten (10) calendar days to five (5) calendar days for export control and enforcement purposes.

• In § 30.1(c), revise the definition for “Power of attorney” to include a reference to Appendix A.

• In § 30.1(c), revise the definition for “Shipment” to clarify that the EEI shall be filed when the value of the goods is over $2,500 per Schedule B number, except as noted in § 30.2(a)(1)(iv).

• In § 30.1(c), revise the definition for “Shipment reference number” to clarify that the reuse of the shipment reference number is prohibited.

• In § 30.1(c), revise the definition for “Shipper's Export Declaration (SED)” to clarify the date the paper SED became obsolete.

• In § 30.1(c), revise the definition for “Split shipment” to clarify that split shipments apply to all modes of transportation and that the goods must leave from the same port within 24 hours.

• In § 30.1(c), revise the definition for “U.S. Customs and Border Protection” to correct errors in grammar.

• In § 30.1(c), revise the definition for “Written Authorization” to include reference to Appendix A.

• In § 30.2(a)(1)(iv), redesignate paragraph (E) as a note in this section and add new paragraph (E) to include the filing requirements for shipments licensed by the NRC.

• In § 30.2(a)(1)(iv), add paragraph (H) to include the new filing requirements for reporting used self-propelled vehicles. These shipments will be required to be filed in accordance with CBP regulations.

• In § 30.2(a)(1)(iv), add a note to reference § 30.16 for filing requirements for shipments destined for a country in Country Group E:1 as set forth in the Supplement No. 1 to 15 CFR part 740.

• Revise § 30.2(a)(2), to reflect the correct Web site for the AESTIR document.

• Revise § 30.2(b)(3) to reflect that the AES downtime procedures cannot be used when the computer system of an AES participant is unavailable for transmission.

• Revise § 30.2(d)(2) to clarify that Puerto Rico and the U.S. Virgin Islands are not excluded from filing the EEI.

• Revise the parenthetical phrase in § 30.2(d)(4), by removing the word “by” and adding in its place the word “to.”

• In § 30.2(d), add a new paragraph (5) to include the new exclusion for goods licensed by a U.S. federal government agency where the country of ultimate destination is the United States or goods destined to international waters where the person(s) or entity assuming control of the item(s) is a citizen or permanent resident alien of the United States or a juridical entity organized under the laws of the United States or a jurisdiction within the United States.

• Revise § 30.3(b)(2) to clarify that a foreign entity must be in the United States at the time goods are purchased or obtained for export in order to be listed as a USPPI.

• Revise § 30.3(b)(2)(iii) by removing the word “foreign entity” and adding in its place the word “FPPI.” This revision was done to differentiate between the use of the term foreign entity versus FPPI.

• In § 30.3(b), add paragraph (4) to include carriers as a party to the export transaction.

• Revise § 30.3(c)(2)(ii) to clarify that the power of attorney or written authorization comes from the USPPI in a standard transaction.

• In § 30.3(c), add paragraph (3) to clarify carrier responsibilities as they pertain to the FTR.

• Revise § 30.4(a)(6) to clarify that shipments where complete outbound manifests are required prior to clearing vessels going directly to the countries identified in CBP regulations 19 CFR 4.75(c) and aircraft going directly or indirectly to those countries per CBP regulations 19 CFR 122.74(b)(2) must be filed predeparture.

• Revise § 30.4(a)(8) to clarify that all shipments that require a license from the BIS or include commodities identified on the Commerce Control List that are not EAR99 must be filed predeparture.

• In § 30.4(a), redesignate paragraphs (9) and (10) as (10) and (11) and add new paragraph (9) to include the requirement that shipments licensed by the NRC must be filed predeparture.

• Revise § 30.4(b)(1) to provide the correct citation in the International Traffic in Arms Regulations for filing timeframes for United States Munitions List (USML) shipments.

• Revise § 30.4(b)(2) to clarify that the filing timeframes do not apply to non-USML shipments between United States and Puerto Rico and do not have to adhere to the filing timeframes.

• In § 30.4(b), redesignate paragraph (3) as paragraph (4) and add new paragraph (3) to clarify that the filing timeframes for shipments between the United States and Puerto Rico do not apply. The USPPI must file the export information for shipments between the United States and Puerto Rico and have the proof of filing citation, postdeparture filing citation, or exemption citation by the time the shipment arrives at the port of unloading.

• Revise § 30.4(b) to add paragraph (5) to include the filing timeframe requirements for used self-propelled vehicles as defined in 19 CFR 192.2 of CBP regulations.

• Revise § 30.4(c) and § 30.5(c) to clarify that the postdeparture filing time frame has changed from ten (10) calendar days to five (5) calendar days.

• Revise § 30.5 to clarify that, when a new postdeparture program is established and the moratorium is lifted, the certification and approval requirements will be strengthened to address U.S. national security concerns and interest. All current USPPI's previously approved for postdeparture filing must reapply.

• In § 30.5(c)(1), add paragraph (ix) to include that the USPPI will be denied postdeparture filing status if unable to meet the AES predeparture filing requirements.

• In § 30.5(c)(3), add paragraph (G) to clarify that the Census Bureau may revoke postdeparture privileges of an approved USPPI if it exports commodities that must be filed predeparture. See section 30.4(a) for types of shipments that must be filed predeparture.

• In § 30.5(d)(1) and (d)(2), remove the administrator code option for accessing account features in the AESDirect.

• Revise § 30.5(d)(2) to clarify that companies must immediately deactivate the username, in the AESDirect, of any employee who leaves the company or is no longer an authorized user.

• Revise § 30.6(a)(1)(ii) to clarify that the USPPI does not need to own/lease the facility where the goods actually begin the journey to the port of export.

• Revise § 30.6(a)(3) to reflect the new definition of “Ultimate Consignee” and to clarify that for licensed shipments to international waters, the person designated on the export license must be reported as the ultimate consignee.

• Revise § 30.6(a)(5) to clarify that the country of ultimate destination can be the country where the goods are stored.

• Revise § 30.6(a)(5)(i) to clarify that the country of ultimate destination for BIS license exceptions and non-licensed shipments to international waters is the nationality of the person(s) or entity assuming control of the item(s) subject to the EAR .

• Revise § 30.6(a)(8) to clarify the carrier identification code that must be reported in the AES for vessel shipments.

• In § 30.6(a)(9), revise text to specify that the port of export for shipments by overland transportation is where the goods cross the U.S. border into Canada or Mexico, including transshipments through Canada or Mexico. In addition, language was added to address shipments by vessel and air involving several ports of exportation.

• In § 30.6(a)(9), remove paragraphs (i) and (ii) because the content is included in the text of § 30.6(a)(9).

• In § 30.6(a)(17), revise the introductory text to clarify that the value reported in the AES must be in U.S. dollars.

• Revise § 30.6(a)(19) to clarify that the reuse of the shipment reference number is prohibited.

• Revise § 30.6(a)(23) by adding a comma and the word “authorization” after the word “permit.” This revision is to clarify that authorizations, such as validated end-users, are to be reported in the license code/license exemption code field.

• In § 30.6(a) add paragraphs (24), and (24)(i) through (24)(iv) to include a new mandatory filing requirement for ultimate consignee type. The ultimate consignee types are: Direct Consumer, Government Entity, Reseller, and Other/Unknown. If more than one type applies to the ultimate consignee, report the type that applies most often.

• In § 30.6(b), redesignate paragraphs (15) and (16) as paragraphs (16) and (17) and add new paragraph (15) to include the new conditional filing requirement for reporting the license value.

• In § 30.6(b)(1), clarify that an authorized agent shall be reported in the AES when the agent prepares and files the EEI or is named on the export license. Therefore, the language from (b)(1)(ii) is removed because it is captured in 30.6(b)(1).

• Revise § 30.6(b)(3) to add the words “seven-digit alpha numeric identifier.”

• Revise § 30.6(c)(2) to allow the USPPI to report the container number for containerized vessel shipments in the equipment number field.

• Revise § 30.7(c) to specify that the Kimberley Process Certificate must be faxed to the Census Bureau prior to export.

• In § 30.8, remove the citation “§ 30.4(e)” and add in its place “§ 30.7”, which references the requirement to annotate the commercial loading documents with the proof of filing citation and exemption legend, because the incorrect citation was provided. Section 30.7 provides requirements for annotating the bill of lading, air waybill, or other commercial loading documents with the proof of filing citations, and exemption legends.

• In § 30.8(a), remove the citation “§ 30.2” and add in its place “§ 30.4(b)” because the incorrect citation is provided in the current FTR.

• In § 30.8(b), add language to reference § 30.46 which states the requirements for filing export information by pipeline carriers.

• Revise § 30.9(b) to clarify that failure to respond to fatal error messages for shipments filed subject the USPPI or authorized agent to penalties. In addition, change the postdeparture filing time frame from ten (10) calendar days to five (5) calendar days, and replace the word “regulation” with “the FTR” in the second to last sentence.

• In § 30.16, revise the introductory text to spell out the acronym “EAR” and remove the word “also.”

• In § 30.16, revise paragraph (b) to include reference to 15 CFR 758.1(g).

• In § 30.16, add paragraph (c) to include the requirement for placing certain information on export control documents for shipments that are exempt from filing in the AES.

• In § 30.16, add paragraph (d) for Country Group E:1 filing requirements. A shipment destined for a country listed in Country Group E:1 as set forth in Supplement No. 1 to 15 CFR part 740 shall require EEI filings regardless of value unless such shipment is eligible for one of more of the exemptions in § 30.37(y) and does not require a license by any other Federal Government Agency.

• In § 30.16, add paragraph (e) for goods licensed by BIS where the country of ultimate destination is the United States.

• Revise § 30.18(a) to spell out the acronym “ITAR” and to clarify that shipments licensed by the State Department that are ultimately destined to a location in the United States are not required to be filed in the AES.

• In § 30.25, add paragraph (c) to include the new filing requirements for goods rejected after entry into the United States. Those goods must be filed in the AES and the value to be reported is the declared import value.

• Redesignate § 30.26(a) as new paragraph § 30.37(v) to include the exemption for reporting vessels, aircraft, cargo vans, and other carriers and containers when shipping as instruments of international traffic.

• Redesignate and revise § 30.26(b) as § 30.26.

• In § 30.28, revise the title to remove the quotation marks and the words “by air.” This section clarifies that split shipments now include all modes of transportation and that all parts of a shipment's goods must leave within 24 hours from the same port without requiring a new EEI filing or a revision to the originally filed EEI.

• In § 30.28, revise the introductory text to remove the words “by air,” and the word “aircraft” and adding in place of the latter the word “conveyance,” and to clarify that all parts of a split shipment must leave from the same port within 24 hours.

• In § 30.28(a) and (b), remove all references to the word “flight” and add in its place “conveyance.” This revision is to clarify that split shipments apply to all modes of transportation.

• Revise § 30.29 to clarify the value to be reported for USML and non-USML shipments of goods previously imported for repair, alteration, or replaced under warranty.

• Revise § 30.35 to clarify that exemptions from filing in the AES do not apply when a shipment falls under § 30.2(a)(1)(iv), which references the types of export shipments that must be filed, regardless of value.

• In § 30.36(b), add paragraph (7) to include the requirement for reporting all used self-propelled vehicles.

• In § 30.36(b), revise the introductory text to clarify that shipments destined to Canada must be filed in the same manner as all other exports when they fall under §§ 30.36(b)(1) through (7) and remove this language from paragraph (b)(2).

• Revise § 30.37 introductory text to clarify that exemptions from filing EEI do not apply if the shipment falls under § 30.2(a)(1)(iv), which references the types of export shipments that must be filed, regardless of value.

• In § 30.37, remove and reserve paragraph (e). This revision removes goods that are transported In-bond through the United States from the list of exemptions. These shipments are outside the scope of the FTR and are excluded from filing requirements. This exclusion is located in § 30.2(d)(1).

• In § 30.37, remove and reserve paragraphs (q) and (r). This revision removes the exemption for temporary exports or for goods that were temporarily imported. Temporary shipments of goods valued over $2,500 per Schedule B or that require a license must be filed in the AES. When reporting temporary exports, report the appropriate export information code for temporary goods, such as “TE and TP”.

• Revise § 30.37(a) by removing the words “Except as noted in § 30.2 (a)(1)(iv)” and clarify that goods that are of domestic and foreign origins with the same Schedule B number must be reported separately. In addition the reference to § 30.38 for the reporting of household goods was added.

• Revise § 30.37(g) to clarify the types of articles that are exempt when shipping to foreign libraries, government establishments, and other similar institutions.

• Revise § 30.37(h) to clarify the specific section of the EAR for license exception GFT.

• Revise § 30.37 by adding paragraphs (u), (v), (w), (x) and (y) to clarify that exports of technical data and defense service exemptions; vessels, aircraft, cargo vans, and other carriers and containers when shipping as tools of international trade; Army Post Office, Diplomatic Post Office and Fleet Post Office shipments; shipments exported under license exception Baggage (BAG) and certain shipments destined to Country Group E:1, are exempt from the EEI filing requirements.

• Revise § 30.38 to reflect the revised definition of household goods.

• In § 30.39 and § 30.40, revise the introductory text to clarify that the exemptions for the U.S. Armed Services and U.S. government agencies and employees do not apply if the shipment falls under § 30.2(a)(1)(iv), which identifies the types of export shipments that must be filed, regardless of value.

• In § 30.40, remove paragraph (d) because § 30.37(g) now incorporates the exemption described in this paragraph.

• In § 30.45(a), revise the introductory text by removing the word “shall” from the first sentence and adding in its place the word “may.”

• In § 30.45(a)(2), remove the word “unladed” and adding in its place “unladen.” This section is also revised to require the manifest to be filed with the CBP Port Director at the port of exit rather than the port where the goods are laden, except for shipments from the United States to Puerto Rico.

• In § 30.45(c), revise the title to remove the quotation marks and the words “by air” since this requirement now pertains to all modes of transportation. This section is also revised to clarify that a split shipment must be divided by the carrier.

• In § 30.45(d), remove the words “bill of lading” in the last sentence and add in its place the words “commercial loading document.”

• Revise § 30.45(f)(1) by adding the words “Except as noted in § 30.4 (b)(2)” to clarify that proof of filing citations and exemption legends are required for shipments between the United States and Puerto Rico when the carrier reaches the port of unlading.

• In § 30.45(f), remove paragraphs (3) and (4) because requirements for truck and rail shipments will be added to §§ 30.45(f)(1) and (2).

• In § 30.47, revise paragraphs (a), (a)(1) and (a)(2) to clarify that the carrier must file the manifest and all required filing citations and/or exemption legends in accordance with the CBP regulations.

• Revise § 30.47(a)(3) to clarify that a list of filing citations and/or exemption legends must be presented for carriers under bond on an incomplete manifest upon request by CBP.

• In § 30.50(b)(5), remove the words “Automated Foreign Trade Zone Reporting Program (AFTZRP)” and add in their place “Electronic CBP Form 214 Admissions (e214)” since the AFTZRP was eliminated March 1, 2009.

• Revise § 30.52 to clarify the statistical filing requirements for Foreign Trade Zone shipments via the e214 or paper 214A.

• In § 30.54(b), remove the word “region” in the last sentence and add in its place the word “country.” This is to clarify that the region of origin code replaces the country of origin code on the CBP Form 7501.

• In § 30.71(b), revise paragraph (1), redesignate paragraphs (2) and (3) as paragraphs (3) and (4) and add a new paragraph (2). This revision is to clarify that the civil penalties imposed for late filings and failures to file are different. For late filings, the penalty will not exceed $1,100 per day of delinquency, and no more than $10,000 per violation; whereas, failure to file, the penalty will not exceed $10,000 per violation.

• In § 30.74(c)(3), add paragraphs (vi) and (vii) to clarify that, when submitting a voluntary self-disclosure, the person must indicate the corrective measures taken to avoid the violation in the future and the ITNs of the missed and/or corrected shipments.

• Revise § 30.74(c)(5) to include the U.S. Census Bureau's Foreign Trade Division Web site regarding further instructions for submitting Voluntary self-disclosure (VSD) to the Census Bureau.

• Revise Appendices B through F to reflect all proposed changes to the FTR discussed in this part.

Classification

Regulatory Flexibility Act

The Chief Counsel for Regulation of the Department of Commerce certified to the Chief Counsel for Advocacy of the Small Business Administration during the proposed rule stage that this action would not have a significant economic impact on a substantial number of small entities. The factual basis for this determination was published in the proposed rule and is not repeated here. No comments were received regarding the certification. As a result, a regulatory flexibility analysis was not required and none was prepared.

Executive Orders

This rule has been determined to be not significant for purposes of Executive Order 12866. It has been determined that this rule does not contain policies with federalism implications as that term is defined under Executive Order 13132.

Paperwork Reduction Act

Notwithstanding any other provision of law, no person is required to respond to, nor shall a person be subject to a penalty for failure to comply with, a collection of information subject to the requirements of the Paperwork Reduction Act (PRA), unless that collection of information displays a current, valid Office of Management and Budget (OMB) control number. This rule contains a collection-of-information subject to the requirements of the PRA (44 U.S.C. 3501 et seq.) and a 30-day notice has been submitted to the OMB under control number 0607-0152 for approval to continue to collect export information via the AES and to collect two additional data elements, ultimate consignee type and license value. The estimated burden hours for filing the SED information through the AES and related documents (e.g., the AES Participant Application (APA) and AESDirect) are 791,600.

List of Subjects in 15 CFR Part 30

Economic statistics, exports, foreign trade, reporting and recordkeeping requirements.

For the reasons set out in the preamble, the Census Bureau is amending Title 15, CFR part 30, as follows:

PART 30—FOREIGN TRADE REGULATIONS

Subpart A— General Requirements

1-2. The authority citation for part 30 continues to read as follows:

Authority: 5 U.S.C. 301; 13 U.S.C. 301-307; Reorganization Plan 5 of 1990 (3 CFR 1949-1953 Comp., p.1004); Department of Commerce Organization Order No. 35-2A, July 22, 1987, as amended, and No. 35-2B, December 20, 1996, as amended; and Public Law 107-228, 116 Stat.1350.

3. Amend § 30.1(c) by:

a. Revising the terms and definitions for “AES downtime filing citation,” “Annotation,” “Automated Export System Trade Interface Requirements (AESTIR),” “Country of ultimate destination,” “Filers,” “Foreign Export,” “Foreign principal party in interest (FPPI),” “Foreign Trade Zone,” “Harmonized Tariff Schedule of the United States Annotated (HTSUSA),” “Method of transportation,” “Port of export,” “Postdeparture filing,” “Power of attorney,” “Shipment,” “Shipment reference number,” “Shipper's Export Declaration (SED),” “Split shipment,” “U.S. Customs and Border Protection (CBP),” and “Written Authorization;” and removing the definition for “Automated Foreign Trade Zone Reporting Program (AFTZRP),” “Loading Document,” “Export Value”; and

b. Adding alphabetically the definitions for “Commercial loading document,” “Diplomatic pouch,” “Electronic CBP Form 214 Admissions (e214),” “Filer ID,” “Foreign port of unlading,” “Household goods,” “International waters,” “Issued banknote,” “Mass-market software,” “Non Vessel Operating Common Carrier (NVOCC),” “Shipping documents,” “Transshipment,” “Value,” and “Voluntary Self-Disclosure (VSD)”.

The revisions and additions read as follows:

§ 30.1 Purpose and definitions.

* * * * *

(c) * * *

AES downtime filing citation. A statement used in place of a proof of filing citation when the AES or AES Direct computer systems experience a major failure. The citation must appear on the bill of lading, air waybill, export shipping instructions, or other commercial loading documents. The downtime filing citation is not to be used when the filer's system is down or experiencing delays.

* * * * *

Annotation. An explanatory note (e.g., proof of filing citation, postdeparture filing citation, AES downtime filing citation, exemption or exclusion legend) placed on the bill of lading, air waybill, export shipping instructions, or other commercial loading documents.

* * * * *

Automated Export System Trade Interface Requirements (AESTIR). The document that describes the technical and operational requirements of the AES. The AESTIR presents record formats and other reference information used in the AES.

* * * * *

Commercial loading document. A document that establishes the terms of a contract between a shipper and a transportation company under which freight is to be moved between points for a specific charge. It is usually prepared by the shipper or the shipper's agent or the carrier and serves as a contract of carriage. Examples of commercial loading documents include the air waybill, ocean bill of lading, truck bill and rail bill of lading.

* * * * *

Country of ultimate destination. The country where the goods are to be consumed, further processed, stored, or manufactured, as known to the USPPI at the time of export. (See § 30.6(a)(5).

* * * * *

Diplomatic pouch. Any properly identified and sealed pouch, package, envelope, bag, or other container that is used to transport official correspondence, documents, and articles intended for official use, between embassies, legations, or consulates, and the foreign office of any government.

* * * * *

Electronic CBP Form 214 Admissions (e214). An automated CBP mechanism that allows importers, brokers, and zone operators to report FTZ admission information electronically via the CBP's Automated Broker Interface. The e214 is the electronic mechanism that replaced the Census Bureau's Automated Foreign Trade Zone Reporting Program (AFTZRP).

* * * * *

Filers. Those USPPIs or authorized agents (of either the USPPI or the FPPI) who have been approved to file EEI directly in the AES or AESDirect Internet application.

Filer ID. The Employer Identification Number or Dun & Bradstreet Number of the company or individual filing the export information in the Automated Export System.

* * * * *

Foreign exports. Commodities of foreign origin that have previously been admitted to a U.S. FTZ or entered the United States for consumption, including entry into a CBP bonded warehouse, and which, at the time of exportation, are in substantially the same condition as when imported.

Foreign port of unlading. The port in a foreign country where the goods are removed from the exporting carrier. The foreign port does not have to be located in the country of destination. The foreign port of unlading shall be reported in terms of the Schedule K, “Classification of CBP Foreign Ports by Geographic Trade Area and Country.”

Foreign Principal Party in Interest (FPPI). The party abroad who purchases the goods for export or to whom final delivery or end-use of the goods will be made. This party may be the Ultimate Consignee.

Foreign Trade Zone (FTZ). Specially licensed commercial and industrial areas in or near ports of entry where foreign and domestic goods, including raw materials, components, and finished goods, may be brought in without being subject to payment of customs duties. Goods brought into these zones may be stored, sold, exhibited, repacked, assembled, sorted, graded, cleaned, manufactured, or otherwise manipulated prior to reexport or entry into the country's customs territory.

* * * * *

Harmonized Tariff Schedule of the United States Annotated (HTSUSA). An organized listing of goods and their duty rates, developed by the U.S. International Trade Commission, as the basis for classifying imported products.

Household goods. Usual and reasonable kinds and quantities of personal property necessary and appropriate for use by the USPPI in the USPPI's dwelling in a foreign country that are shipped under a bill of lading or an air waybill and are not intended for sale.

* * * * *

International waters. Waters located outside the U.S. territorial sea, which extends 12 nautical miles measured from the baselines of the United States, and outside the territory of any foreign country, including the territorial waters thereof. Note that vessels, platforms, buoys, undersea systems, and other similar structures that are located in international waters, but are attached permanently or temporarily to a country's continental shelf, are considered to be within the territory of that country.

* * * * *

Issued banknote. A promissory note intended to circulate as money, usually printed on paper or plastic, issued by a bank with a specific denomination, payable to an individual, entity or the bearer.

* * * * *

Kimberley Process Certificate (KPC). The document used to certify the origin of rough diamonds from sources which are free of conflict.

* * * * *

Mass-market software. Software that is produced in large numbers and made available to the public. It does not include software that is customized for a specific user.

* * * * *

Method of transportation. The method by which goods are exported from the United States by way of seaports, airports, or land border crossing points. Methods of transportation include vessel, air, truck, rail, mail or other. Method of transportation is synonymous with mode of transportation.

* * * * *

Non-Vessel Operating Common Carrier (NVOCC). A freight forwarder that acts as common carrier but does not operate the vessels by which ocean transportation is provided, and is a shipper in relation to the involved ocean common carrier.

* * * * *

Port of export. The port of export is the U.S. Customs and Border Protection (CBP) seaport or airport where the goods are loaded on the aircraft or vessel that is taking the goods out of the United States, or the CBP port where exports by overland transportation cross the U.S. border into Canada or Mexico. For EEI reporting purposes only, for goods loaded aboard an aircraft or vessel that stops at several ports before clearing to the foreign country, the port of export is the first CBP port where the goods were loaded. For goods off-loaded from the original conveyance to another conveyance (even if the aircraft or vessel belongs to the same carrier) at any of the ports, the port where the goods were loaded on the last conveyance before going foreign is the port of export. The port of export is reported in terms of Schedule D, “Classification of CBP Districts and Ports.” Use port code 8000 for shipments by mail.

* * * * *

Postdeparture filing. The privilege granted to approved USPPIs for their EEI to be filed up to five (5) calendar days after the date of export.

* * * * *

Power of attorney. A legal authorization, in writing, from a USPPI or FPPI stating that an agent has authority to act as the principal party's true and lawful agent for purposes of preparing and filing the EEI in accordance with the laws and regulations of the United States. (See Appendix A of this part.)

* * * * *

Shipment. All goods being sent from one USPPI to one consignee located in a single country of destination on a single conveyance and on the same day. Except as noted in § 30.2(a)(1)(iv), the EEI shall be filed when the value of the goods is over $2,500 per Schedule B or HTSUSA commodity classification code.

Shipment reference number. A unique identification number assigned to the shipment by the filer for reference purposes. The reuse of the shipment reference number is prohibited.

Shipper's Export Declaration (SED). The Department of Commerce paper form used under the Foreign Trade Statistics Regulations to collect information from an entity exporting from the United States. This form was used for compiling the official U.S. export statistics for the United States and for export control purposes. The SED became obsolete on October 1, 2008, with the implementation of the Foreign Trade Regulations (FTR) and has been superseded by the EEI filed in the AES or through the AESDirect.

Shipping documents. Documents that include but are not limited to commercial invoices, export shipping instructions, packing lists, bill of ladings and air waybills.

* * * * *

Split shipment. A shipment booked for export that is divided by the carrier in two or more shipments by the same mode of transportation from the same port within 24 hours.

* * * * *

Transshipment. The transfer of merchandise from the country or countries of origin through an intermediary country or countries to the country of ultimate destination.

* * * * *

U.S. Customs and Border Protection (CBP). The border agency within the Department of Homeland Security (DHS) charged with the management, control, and protection of our Nation's borders at and between the official ports of entry of the United States.

* * * * *

Value. The selling price (or the cost if the goods are not sold) in U.S. dollars, plus inland or domestic freight, insurance, and other charges to the U.S. seaport, airport, or land border port of export. Cost of goods is the sum of expenses incurred in the USPPI's acquisition or production of the goods. (See § 30.6(a)(17)).

* * * * *

Voluntary Self-Disclosure (VSD). A narrative account with supporting documentation that sufficiently describes suspected violations of the FTR. A VSD reflects due diligence in detecting, and correcting potential violation(s) when required information was not reported or when incorrect information was provided that violates the FTR.

* * * * *

Written authorization. An authorization, in writing, by the USPPI or FPPI stating that the agent has authority to act as the USPPI's or FPPI's true and lawful agent for purposes of preparing and filing the EEI in accordance with the laws and regulations of the United States. (See Appendix A of this part.)

4. Amend § 30.2 as follows:

a. Revise paragraph (a)(1)(iv)(E);

b. Add paragraph (a)(1)(iv)(H);

c. Add a note to (a)(1)(iv);

d. Revise paragraphs (a)(2) and (b)(3);

e. Revise paragraph (d) introductory text, (d)(2), and (d)(4); and

f. Add paragraph (d)(5).

The additions and revisions read as follows:

§ 30.2 General requirements for filing Electronic Export Information (EEI).

(a) * * *

(1) * * *

(iv) * * *

(E) Requiring a general or specific export license issued by the U.S. Nuclear Regulatory Commission under 10 CFR part 110.

* * * * *

(H) Used self-propelled vehicles as defined in 19 CFR 192.1 of U.S. Customs and Border Protection regulations, except as noted in CBP regulations.

Note to Paragraph (a)(1)(iv): For the filing requirement for exports destined for a country in Country Group E:1 as set forth in the Supplement No. 1 to 15 CFR part 740, see FTR § 30.16.

(2) Filing methods. The USPPI has four means for filing EEI: use AESDirect; develop AES software using the AESTIR (see <www.cbp.gov/xp/cgov/trade/automated/aes/tech_docs/aestir/>); purchase software developed by certified vendors using the AESTIR; or use an authorized agent. An FPPI can only use an authorized agent in a routed transaction.

(b) * * *

(3) The AES downtime procedures provide uniform instructions for processing export transactions when the government's AES or AESDirect is unavailable for transmission. (See § 30.4(b)(1) and § 30.4(b)(3).)

* * * * *

(d) Exclusions from filing EEI. The following types of transactions are outside the scope of this part and shall be excluded from EEI filing.

* * * * *

(2) Except Puerto Rico and the U.S. Virgin Islands, goods shipped from the U.S. territories and goods shipped between the United States and these territories do not require EEI filing. However, goods transiting U.S. territories to foreign destinations require EEI filing.

* * * * *

(4) Goods shipped to Guantanamo Bay Naval Base in Cuba from the United States, Puerto Rico, or the U.S. Virgin Islands and from Guantanamo Bay Naval Base to the United States, Puerto Rico, or the U.S. Virgin Islands. (See § 30.39 for filing requirements for shipments exported to the U.S. Armed Services.)

(5) Goods licensed by a U.S. federal government agency where the country of ultimate destination is the United States or goods destined to international waters where the person(s) or entity assuming control of the item(s) is a citizen or permanent resident alien of the United States or a juridical entity organized under the laws of the United States or a jurisdiction within the United States.

* * * * *

5. Amend § 30.3 by revising paragraphs (b)(2) introductory text, (b)(2)(iii), and (c)(2)(ii), and adding paragraphs (b)(4) and (c)(3) to read as follows:

§ 30.3 Electronic Export Information filer requirements, parties to export transactions, and responsibilities of parties to export transactions.

* * * * *

(b) * * *

(2) USPPI. For purposes of filing EEI, the USPPI is the person or legal entity in the United States that receives the primary benefit, monetary or otherwise, from the transaction. Generally, that person or entity is the U.S. seller, manufacturer, order party, or foreign entity if in the United States at the time goods are purchased or obtained for export. The foreign entity shall be listed as the USPPI if it is in the United States when the items are purchased or obtained for export. The foreign entity shall then follow the provisions for filing the EEI specified in §§ 30.3 and 30.6 pertaining to the USPPI.

* * * * *

(iii) If a U.S. order party directly arranges for the sale and export of goods to the FPPI, the U.S. order party shall be listed as the USPPI in the EEI.

* * * * *

(4) Carrier. A carrier is an individual or legal entity in the business of transporting passengers or goods. Airlines, trucking companies, railroad companies, shipping lines, and pipeline companies are all examples of carriers.

(c) * * *

(2) * * *

(ii) Obtaining a power of attorney or written authorization from the USPPI to file the EEI.

* * * * *

(3) Carrier responsibilities. (i) The carrier must not load or move cargo unless the required documentation, from the USPPI or authorized agent, contains the required AES proof of filing, postdeparture, downtime, exclusion or exemption citations. This information must be cited on the first page of the bill of lading, air waybill, or other commercial loading documents.

(ii) The carrier must annotate the AES proof of filing, postdeparture, downtime, exclusion or exemption citations on the carrier's outbound manifest when required.

(iii) The carrier is responsible for presenting the required AES proof of filing, postdeparture, downtime, exclusion or exemption citations to the CBP Port Director at the port of export as stated in Subpart E of this part. Such presentation shall be without material change or amendment of the proof of filing, postdeparture, downtime, exclusion or exemption citation.

(iv) The carrier shall notify the USPPI or the authorized agent of changes to the transportation data, and the USPPI or the authorized agent shall electronically transmit the corrections, cancellations, or amendments as soon as the corrections are known in accordance with § 30.9. Manifest amendments must be made in accordance with CBP regulations.

(v) Retain documents pertaining to the export shipment as specified in § 30.10.

* * * * *

6. Amend § 30.4 by:

a. Revising paragraphs (a)(6) and (8);

b. Redesignating paragraphs (a)(9) and (10) as paragraphs (a)(10) and (11);

c. Adding new paragraph (a)(9);

d. Revising paragraph (b)(1) and paragraph (b)(2) introductory text;

e. Redesignating paragraph (b)(3) as (b)(4);

f. Adding a new paragraph (b)(3);

g. Revising newly redesignated paragraph (b)(4);

h. Adding paragraph (b)(5); and

i. Revising paragraph (c).

The additions and revisions read as follows:

§ 30.4 Electronic Export Information filing procedures, deadlines, and certification statements.

* * * * *

(a) * * *

(6) Shipments where complete outbound manifests are required prior to clearing vessels going directly to the countries identified in U.S. Customs and Border Protection regulations 19 CFR 4.75(c) and aircraft going directly or indirectly to those countries. (See U.S. Customs and Border Protection regulation 19 CFR 122.74(b)(2));

* * * * *

(8) Shipments that require a license from the BIS and exports listed under BIS's grounds for denial of postdeparture filing status (see 15 CFR 758.2);

(9) Shipments that require a license from the Nuclear Regulatory Commission.

* * * * *

(b) * * *

(1) For USML shipments, refer to the ITAR (22 CFR 123.22(b)(1)) for specific requirements concerning predeparture filing time frames. In addition, if a filer is unable to acquire an ITN because the AES or AESDirect is not operating, the filer shall not export until the AES is operating and an ITN is acquired. The downtime filing citation is not to be used when the filer's system is down or experiencing delays.

(2) For non-USML shipments, except shipments between the United States and Puerto Rico, file the EEI and provide the ITN as follows (See § 30.4(b)(3), for filing timeframes for shipments between the United States and Puerto Rico):

* * * * *

(3) For shipments between the United States and Puerto Rico, the AES proof of filing citation, postdeparture filing citation, or exemption citation must be presented to the carrier by the time the shipment arrives at the port of unloading.

(4) For non-USML shipments when the AES or AESDirect is unavailable, use the following instructions:

(i) If the participant's AES is unavailable, the filer must delay the export of the goods or find an alternative filing method;

(ii) If AES or AESDirect is unavailable, the goods may be exported and the filer must:

(A) Provide the appropriate downtime filing citation as described in § 30.7(b) and Appendix D; and

(B) Report the EEI at the first opportunity AES or AESDirect is available.

(5) For used self-propelled vehicles as defined in 19 CFR 192.1 of U.S. Customs and Border Protection regulations, the USPPI or the authorized agent shall file the EEI as required by § 30.6 and provide the filing citation to the CBP at least 72 hours prior to export. The filer must also provide the carrier with the filing citation as required by paragraph (b) of this section.

(c) EEI transmitted postdeparture. Postdeparture filing is only available for approved USPPIs and provides for the electronic filing of the data elements required by § 30.6 no later than five (5) calendar days after the date of exportation. For USPPIs approved for postdeparture filing, all shipments (other than those for which predeparture filing is specifically required), by all methods of transportation, may be exported with the filing of EEI made postdeparture. Authorized agents or service centers may transmit information postdeparture on behalf of USPPIs approved for postdeparture filing, or the approved USPPI may transmit the data postdeparture itself.

* * * * *

7. Amend § 30.5 by revising paragraph (c) introductory text, adding paragraphs (c)(1)(ix) and (c)(3)(i)(G), and revising paragraphs (d)(1) and (2) to read as follows:

§ 30.5 Electronic Export Information filing application and certification processes and standards.

* * * * *

(c) Postdeparture filing approval process. Postdeparture filing is a privilege granted to approved USPPIs for their EEI to be filed up to five (5) calendar days after the date of export. The USPPI or its authorized agent may not transmit EEI postdeparture for certain types of shipments that are identified in § 30.4(a). The USPPI may apply for postdeparture filing privileges by submitting a postdeparture filing application at www.census.gov/aes. An authorized agent may not apply on behalf of a USPPI. The Census Bureau will distribute the applications submitted by USPPI's who are applying for postdeparture to the CBP and the other federal government partnership agencies for their review and approval. Failure to meet the standards of the Census Bureau, CBP or any of the partnership agencies is reason for denial of the AES applicant for postdeparture filing privileges. Each partnership agency will develop its own internal postdeparture filing acceptance standards, and each agency will notify the Census Bureau of the USPPI's success or failure to meet that agency's acceptance standards. Any partnership agency may require additional information from USPPIs that are applying for postdeparture filing. The Census Bureau will notify the USPPI of the decision to either deny or approve its application for postdeparture filing privileges within ninety (90) calendar days of receipt of the postdeparture filing application by the Census Bureau.

(1) * * *

(ix) The USPPI fails to demonstrate the ability to meet the AES predeparture filing requirements.

* * * * *

(3) * * *

(i) * * *

(G) The USPPI or its authorized agent files postdeparture for commodities that are identified in § 30.4(a).

* * * * *

(d) * * *

(1) AESDirect user names and passwords are to be kept secure by the account administrator and not disclosed to any unauthorized user or any persons outside the registered company.

(2) Registered companies are responsible for those persons having a user name and password. If an employee with a user name and password leaves the company or otherwise is no longer an authorized user, the company shall immediately deactivate that username in the system to ensure the integrity and confidentiality of Title 13 data.

* * * * *

8. Amend § 30.6 as follows:

a. Revise paragraphs (a)(1)(ii), (a)(3), (a)(5) introductory text, (a)(5)(i), (a)(8), (a)(9), (a)(17) introductory text, (a)(19), and (a)(23);

b. Add paragraph (a)(28);

c. Revise paragraph (b)(1) introductory text, (b)(1)(ii), and (b)(3);

d. Redesignate paragraphs (b)(15) and (16) as (b)(16) and (17), respectively, and revise them;

e. Add a new paragraph (b)(15); and

f. Revise paragraph (c)(2).

The revisions and additions read as follows:

§ 30.6 Electronic Export Information data elements.

* * * * *

(a) * * *

(1) * * *

(ii) Address of the USPPI. In all EEI filings, the USPPI shall report the address or location (no post office box number) from which the goods actually begin the journey to the port of export even if the USPPI does not own/lease the facility. For example, the EEI covering goods laden aboard a truck at a warehouse in Georgia for transport to Florida for loading onto a vessel for export to a foreign country shall show the address of the warehouse in Georgia. For shipments with multiple origins, report the address from which the commodity with the greatest value begins its export journey. If such information is not known, report the address in the state where the commodities are consolidated for export.

* * * * *

(3) Ultimate consignee. The ultimate consignee is the person, party, or designee that is located abroad and actually receives the export shipment. The name and address of the ultimate consignee, whether by sale in the United States or abroad or by consignment, shall be reported in the EEI. The ultimate consignee as known at the time of export shall be reported. For shipments requiring an export license including shipments to international waters, the ultimate consignee reported in the AES shall be the person so designated on the export license or authorized to be the ultimate consignee under the applicable license exemption or exception in conformance with the EAR or ITAR, as applicable. For goods sold en route, report the appropriate “To be Sold En Route” indicator in the EEI, and report corrected information as soon as it is known (see § 30.9 for procedures on correcting AES information).

* * * * *

(5) Country of ultimate destination. The country of ultimate destination is the country in which goods are to be consumed, further processed, stored, or manufactured, as known to the USPPI at the time of export. The country of ultimate destination is the code issued by the ISO. (i) Shipments under an export license, license exception or license exemption. For shipments under an export license or license exemption issued by the Department of State, DDTC or export license or license exception issued by the Department of Commerce, BIS, the country of ultimate destination shall conform to the country of ultimate destination as shown on the license. In the case of a Department of State license, the country of ultimate destination is the country specified with respect to the end user. For goods licensed by other government agencies, refer to their specific requirements concerning providing country of destination information. For shipments to international waters for items that are being exported pursuant to a BIS license exception or No License Required (NLR), the country of destination to be reported is the nationality of the person(s) or entity assuming control of the item(s) subject to the Export Administration Regulations that are being exported.

* * * * *

(8) Carrier identification. The carrier identification is the Standard Carrier Alpha Code (SCAC) for vessel, rail, and truck shipments or the International Air Transport Association (IATA) code for air shipments. The carrier identification specifies the carrier that transports the goods out of the United States. The carrier transporting the goods to the port of export and the carrier transporting the goods out of the United States may be different. For vessel shipments, report the carrier identification code of the party whose booking number was reported in the AES. For transshipments through Canada, Mexico, or another foreign country, the carrier identification is that of the carrier that transports the goods out of the United States. For modes other than vessel, air, rail and truck valid methods of transportation, including but not limited to mail, fixed transport (pipeline), and passenger hand carried, the carrier identification is not required. The National Motor Freight Traffic Association (NMFTA) issues and maintains the SCAC. (See www.nmfta.org.) The IATA issues and maintains the IATA codes. (See www.census.gov/trade for a list of IATA codes.)

(9) Port of export. The port of export is the U.S. Customs and Border Protection (CBP) seaport or airport where the goods are loaded on the carrier that is taking the goods out of the United States, or the CBP port where exports by overland transportation cross the U.S. border into Canada or Mexico. For EEI reporting purposes only, for goods loaded aboard a conveyance (aircraft or vessel) that stops at several ports before clearing to the foreign country, the port of export is the first port where the goods were loaded on this conveyance. For goods off-loaded from the original conveyance to another conveyance (even if the aircraft or vessel belongs to the same carrier) at any of the ports, the port where the goods were loaded on the last conveyance before going foreign is the port of export. The port of export shall be reported in terms of Schedule D, “Classification of CBP Districts and Ports.” Use port code 8000 for shipments by mail.

* * * * *

(17) Value. In general, the value to be reported in the EEI shall be the value of the goods at the U.S. port of export in U.S. dollars. The value shall be the selling price (or the cost, if the goods are not sold), plus inland or domestic freight, insurance, and other charges to the U.S. seaport, airport, or land border port of export. Cost of goods is the sum of expenses incurred in the USPPI's acquisition or production of the goods. Report the value to the nearest dollar, omit cents. Fractions of a dollar less than 50 cents should be ignored, and fractions of 50 cents or more should be rounded up to the next dollar.

* * * * *

(19) Shipment reference number. A unique identification number assigned by the filer that allows for the identification of the shipment in the filer's system. The reuse of the shipment reference number is prohibited.

* * * * *

(23) License code/license exemption code. The code that identifies the commodity as having a federal government agency requirement for a license, permit, authorization, license exception or exemption or that no license is required.

* * * * *

(28) Ultimate consignee type. Provide the business function of the ultimate consignee that most often applies. If more than one type applies to the ultimate consignee, report the type that applies most often. For purposes of this paragraph, the ultimate consignee will be designated as a Direct Consumer, Government Entity, Reseller, or Other/Unknown, defined as follows:

(i) Direct Consumer—a non-government institution, enterprise, or company that will consume or use the exported good as a consumable, for its own internal processes, as an input to the production of another good or as machinery or equipment that is part of a manufacturing process or a provision of services and will not resell or distribute the good.

(ii) Government Entity—a government-owned or government-controlled agency, institution, enterprise, or company.

(iii) Reseller—a non-government reseller, retailer, wholesaler, distributor, distribution center or trading company.

(iv) Other/Unknown—an entity that is not a Direct Consumer, Government Entity or Reseller, as defined above, or whose ultimate consignee type is not known at the time of export.

(b) * * *

(1) Authorized agent and authorized agent identification. The authorized agent is the person or entity in the United States who is authorized by the USPPI or the FPPI to prepare and file the EEI or the person or entity, if any, named on the export license. If an authorized agent is used, the following information shall be provided to the AES:

* * * * *

(ii) Name of the authorized agent. Report the name of the authorized agent. (See § 30.3 for details on the specific reporting responsibilities of authorized agents and Subpart B of this part for export control licensing requirements for authorized agents.)

* * * * *

(3) FTZ identifier. If goods are removed from a FTZ and not entered for consumption, report the FTZ identifier. This is the unique 7-digit alphanumeric identifier assigned by the Foreign Trade Zone Board that identifies the FTZ, subzone or site from which goods are withdrawn for export.

* * * * *

(15) License value. For shipments requiring an export license, report the value designated on the export license that corresponds to the commodity being exported.

(16) Department of State requirements. (i) Directorate of Defense Trade Controls (DDTC) registration number. The number assigned by the DDTC to persons who are required to register per part 122 of the ITAR (22 CFR parts 120 through 130), and have an authorization (license or exemption) from DDTC to export the article.

(ii) DDTC Significant Military Equipment (SME) indicator. A term used to designate articles on the USML (22 CFR part 121) for which special export controls are warranted because of their capacity for substantial military utility or capability. See § 120.7 of the ITAR 22 CFR parts 120 through 130 for a definition of SME and § 121.1 for items designated as SME articles.

(iii) DDTC eligible party certification indicator. Certification by the U.S. exporter that the exporter is an eligible party to participate in defense trade. See 22 CFR 120.1(c). This certification is required only when an exemption is claimed.

(iv) DDTC United States Munitions List (USML) category code. The USML category of the article being exported (22 CFR part 121).

(v) DDTC Unit of Measure (UOM). This unit of measure is the UOM covering the article being shipped as described on the export authorization or declared under an ITAR exemption.

(vi) DDTC quantity. This quantity is the number of articles being shipped. The quantity is the total number of units that corresponds to the DDTC UOM code.

(vii) DDTC exemption number. The exemption number is the specific citation from the ITAR (22 CFR parts 120 through 130) that exempts the shipment from the requirements for a license or other written authorization from DDTC.

(viii) DDTC export license line number. The line number of the State Department export license that corresponds to the article being exported.

(17) Kimberley Process Certificate (KPC) number. The unique identifying number on the KPC issued by the United States Kimberley Process Authority that must accompany all export shipments of rough diamonds. Rough diamonds are classified under 6-digit HS subheadings 7102.10, 7102.21, and 7102.31. Enter the KPC number in the license number field excluding the 2-digit ISO country code for the United States.

(c) * * *

(2) Equipment number. Report the identification number for the shipping equipment, such as container or igloo number (Unit Load Device (ULD)), truck license number, rail car number, or container number for containerized vessel cargo.

9. Amend § 30.7 by revising paragraph (c) to read as follows:

§ 30.7 Annotating the bill of lading, air waybill, or other commercial loading documents with proof of filing citations, and exemption legends.

* * * * *

(c) Exports of rough diamonds classified under HS subheading 7102.10, 7102.21, 7102.31, in accordance with the Clean Diamond Trade Act, will require the proof of filing citation, as stated in paragraph (b) of this section, and report the proof of filing citation on the KPC. In addition, the KPC must be faxed prior to exportation to the Census Bureau on (800) 457-7328 or provided by other methods as permitted by the Census Bureau.

10. Revise § 30.8 to read as follows:

§ 30.8 Time and place for presenting proof of filing citations and exemption legends.

The following conditions govern the time and place to present proof of filing citations, postdeparture filing citations, AES downtime filing citation, exemption, or exclusion legends. The USPPI or the authorized agent is required to deliver the proof of filing citations, postdeparture filing citations, AES downtime filing citations, exemption, or exclusion legends required in § 30.7 to the exporting carrier. See Appendix D of this part for the properly formatted proof of filing citations, exemption, or exclusion legends. Failure of the USPPI or the authorized agent of either the USPPI or FPPI to comply with these requirements constitutes a violation of the regulations in this part and renders such principal party or the authorized agent subject to the penalties provided for in Subpart H of this part.

(a) Postal exports. The proof of filing citations, postdeparture filing citations, AES downtime filing citation, and/or exemption and exclusions legends for items being sent by mail, as required in § 30.4(b), shall be presented to the appropriate Postal Service personnel with the packages at the time of mailing. The postmaster is required to deliver the proof of filing citations or exemption legends prior to export.

(b) Pipeline exports. The proof of filing citations or exemption and exclusion legends for items being sent by pipeline shall be presented to the operator of a pipeline no later than four calendar days after the close of the month. See § 30.46 for requirements for the filing of export information by pipeline carriers.

(c) Exports by other methods of transportation. For exports sent other than by mail or pipeline, the USPPI or the authorized agent is required to deliver the proof of filing citations and/or exemption and exclusion legends to the exporting carrier in accord with the time periods set forth in § 30.4(b).

11. Amend § 30.9 by revising paragraph (b) to read as follows:

§ 30.9 Transmitting and correcting Electronic Export Information.

* * * * *

(b) For shipments where the USPPI or the authorized agent has received an error message from AES, the corrections shall take place as required. Fatal error messages are sent to filers when EEI is not accepted in the AES and update rejected messages are sent when a correction is not accepted in the AES. Fatal errors must be corrected and EEI resubmitted prior to export for shipments filed predeparture and for post-departure shipments but not later than five (5) calendar days after the date of export. Failure to respond to fatal error messages for shipments filed predeparture prior to export of the cargo subjects the principal party or authorized agent to penalties provided for in Subpart H of this part. Failing to transmit corrections to the AES constitutes a violation of the regulations in this part and renders such principal party or authorized agent subject to the penalties provided for in Subpart H of this part. Update rejected messages must be corrected as soon as possible. For EEI that generates a warning message, the correction shall be made within four (4) calendar days of receipt of the original transmission. For EEI that generates a verify message, the correction, when warranted, shall be made within four (4) calendar days of receipt of the message. A compliance alert indicates that the shipment was not reported in accordance with the FTR. The USPPI or the authorized agent is required to review its filing practices and take required corrective actions to conform with export reporting requirements.

12. Amend § 30.16 by revising the introductory text and paragraph (b) and adding paragraphs (c), (d), and (e) to read as follows:

§ 30.16 Export Administration Regulations.

The Export Administration Regulations (EAR) issued by the U.S. Department of Commerce, BIS, contain additional reporting requirements pertaining to EEI (see 15 CFR parts 730-774).

* * * * *

(b) Requirements to place certain export control information in the EEI are found in the EAR. (See 15 CFR 758.1(g) and 15 CFR 758.2).

(c) Requirements to place certain export control information on export control documents for shipments exempt from AES filing requirements. (See 15 CFR 758.1(d)).

(d) A shipment destined for a country listed in Country Group E:1 as set forth in Supplement No. 1 to 15 CFR part 740 shall require EEI filings regardless of value unless such shipment is eligible for an exemption in § 30.37(y) of this part and does not require a license by BIS or any other Federal Government Agency.

(e) Goods licensed by BIS where the country of ultimate destination is the United States or goods destined to international waters where the person(s) or entity assuming control of the item(s) is a citizen or permanent resident alien of the United States or a juridical entity organized under the laws of the United States or a jurisdiction within the United States shall be excluded from EEI filing.

13. Amend § 30.18 by revising paragraph (a) to read as follows:

§ 30.18 Department of State regulations.

(a) The USPPI or the authorized agent shall file export information, as required, for items on the USML of the International Traffic in Arms Regulations (ITAR) (22 CFR part 121). Information for items identified on the USML, including those exported under an export license or license exemption, shall be filed prior to export. Items identified on the USML, including those exported under an export license or license exemption, ultimately destined to a location in the United States are not required to be reported in the AES.

* * * * *

14. Amend § 30.25 by adding paragraph (c) to read as follows:

§ 30.25 Values for certain types of transactions.

* * * * *

(c) Goods rejected after entry. For imported goods that are cleared by CBP but subsequently rejected, an EEI must be filed to export the goods. The value to be reported in the AES is the declared import value of the goods.

15. Revise § 30.26 to read as follows:

§ 30.26 Reporting of vessels, aircraft, cargo vans, and other carriers and containers.

(a) Export information shall be filed in the AES for all vessels, locomotives, aircraft, rail cars, trucks, other vehicles, trailers, pallets, cargo vans, lift vans, or similar shipping containers when these items are moving as goods pursuant to sale or other transfer from ownership in the United States to ownership abroad. If the vessel, car, aircraft, locomotive, rail car, vehicle, or shipping container is outside Customs territory of the United States at the time of sale or transfer to foreign ownership, EEI shall be reported identifying the last port of clearance or departure from the United States prior to sale or transfer. The date of export shall be the date of sale.

(b) The country of destination to be shown in the EEI for vessels sold foreign is the country of new ownership. The country for which the vessel clears, or the country of registry of the vessel, should not be reported as the country of destination in the EEI unless such country is the country of new ownership.

16. Amend § 30.28 by revising the section heading, introductory text, and paragraphs (a) and (b) to read as follows:

§ 30.28 Split shipments.

A shipment covered by a single EEI transmission booked for export on one conveyance, but divided prior to export where the exporting carrier at the port of export will file the manifest indicating that the cargo was sent on two or more of the same conveyances leaving from the same port of export of the same carrier within 24 hours. For the succeeding parts of the shipment that are not exported within 24 hours, a new EEI must be filed and amendments must be made to the original AES record. The following procedures apply for split shipments:

(a) The carrier shall deliver the manifest to the CBP Port Director with the manifest covering the conveyance on which the first part of the split shipment is exported and shall make no changes to the EEI. However, the manifest shall show in the “number of packages” column the actual portion of the declared total quantity being carried and shall carry a notation to indicate “Split Shipment.”e.g., “3 of 10—Split Shipment” All associated manifests with the notation “Split Shipment” will have identical ITNs if exported within 24 hours.

(b) On each subsequent manifest covering a conveyance on which any part of a split shipment is exported, a prominent notation “SPLIT SHIPMENT”, e.g. “4 of 10—Split shipment” shall be made on the manifest for identification. On the last shipment, the notation shall read “SPLIT SHIPMENT, FINAL, e.g., “10 of 10 Split Shipment, Final”.” Each subsequent manifest covering a part of a split shipment shall also show in the “number of packages” column only the goods carried on that particular conveyance and a reference to the total number originally declared for export (for example, 5 of 11, or 5/11). Immediately following the line showing the portion of the split shipment carried on that conveyance, a notation will be made showing the bill of lading number, air waybill number, or other commercial loading documents shown in the original EEI and the portions of the originally declared total carried on each previous conveyance, together with the number and date of each such previous conveyance.

* * * * *

17. Amend § 30.29 by revising paragraphs (a), (b)(1), and (b)(2) to read as follows:

§ 30.29 Reporting of repairs and replacements.

* * * * *

(a) The return of goods previously imported only for repair and alteration.

(1) The return of non-USML goods temporarily imported for repair and alteration and declared as such on importation shall have Schedule B number 9801.10.0000. The value reported shall only include parts and labor. The value of the original product shall not be included. If the value of the parts and labor is over $2,500 per Schedule B number, then EEI must be filed.

(2) The return of USML goods temporarily imported for repair and alteration and declared as such on importation shall have Schedule B number 9801.10.0000. In the value field, report the value of the parts and labor, in the license value field, report the value designated on the export license that corresponds to the commodity being exported. An EEI must be filed regardless of value.

(b) * * *

(1) Goods that are reexported after repair under warranty shall follow the procedures in paragraph (a)(1) or (2) of this section as appropriate. It is recommended that the bill of lading, air waybill, or other loading documents include the statement, “This product was repaired under warranty.”

(2) Goods that are replaced under warranty at no charge to the customer shall include the statement, “Product replaced under warranty, value for EEI purposes” on the bill of lading, air waybill, or other commercial loading documents. Place the notation below the proof of filing citation or exemption legend on the commercial document. Report the Schedule B number or HTSUSA classification commodity number of the replacement parts. For non-USML goods, report the value of the replacement parts in accordance with § 30.6(a)(17). For USML shipments report the value in accordance to § 30.6(a)(17) and (b)(15).

18. Revise § 30.35 to read as follows:

§ 30.35 Procedure for shipments exempt from filing requirements.

Except as noted in § 30.2(a)(1)(iv), where an exemption from the filing requirement is provided in this subpart of this part, a legend describing the basis for the exemption shall be made on the first page of the bill of lading, air waybill, or other commercial loading document, and on the carrier's outbound manifest. The exemption legend shall reference the number of the section or provision in this part where the particular exemption is provided (see Appendix D of this part).

19. Amend § 30.36 by revising paragraph (b) introductory text and paragraph (b)(2); and adding paragraph (b)(7) to read as follows:

§ 30.36 Exemption for shipments destined to Canada.

* * * * *

(b) This exemption does not apply to the following types of export shipments (These shipments shall be reported in the same manner as for all other exports, except household goods, which require limited reporting):

* * * * *

(2) Exports moving from the United States through Canada to a third destination.

* * * * *

(7) Used self-propelled vehicles as defined in 19 CFR 192.1 of U.S. Customs and Border Protection regulations, regardless of value or country of destination.

20. Amend § 30.37 by:

a. Revising the introductory text and paragraph (a);

b. Removing and reserving paragraph (e);

c. Revising paragraphs (g) and (h);

d. Removing and reserving paragraphs (q) and (r); and

e. Adding paragraphs (u), (v), (w), (x) and (y).

The revisions and additions read as follows:

§ 30.37 Miscellaneous exemptions.

Except as noted in § 30.2(a)(1)(iv), filing EEI is not required for the following kinds of shipments. However, the Census Bureau has the authority to periodically require the reporting of shipments that are normally exempt from filing.

(a) Exports of commodities where the value of the commodities shipped from one USPPI to one consignee on a single exporting conveyance, classified under an individual Schedule B number or HTSUSA commodity classification code is $2,500 or less. This exemption applies to individual Schedule B numbers or HTSUSA commodity classification codes regardless of the total shipment value. In instances where a shipment contains a mixture of individual Schedule B numbers or HTSUSA commodity classification codes valued at $2,500 or less and individual Schedule B numbers or HTSUSA commodity classification codes valued over $2,500, only those Schedule B numbers or HTSUSA commodity classification codes valued over $2,500 are required to be reported. If the filer reports multiple items of the same Schedule B number or HTSUSA commodity classification code, this exemption only applies if the total value of exports for the Schedule B number or HTSUSA commodity classification code is $2,500 or less. Items of domestic and foreign origin under the same commodity classification number must be reported separately and EEI filing is required when either is over $2,500. For the reporting of household goods see § 30.38. Note: this exemption does not apply to the export of vehicles. The export information for vehicles must be filed in AES regardless of value or country of destination.

* * * * *

(g) Shipments of books, maps, charts, pamphlets, and similar articles to foreign libraries, government establishments, or similar institutions.

(h) Shipments as authorized under License Exception GFT for gift parcels and humanitarian donations (15 CFR 740.12(a) and (b)).

* * * * *

(u) Exports of technical data and defense service exemptions as cited in 22 CFR 123.22(b)(3)(iii) of the ITAR.

(v) Vessels, locomotives, aircraft, rail cars, trucks, other vehicles, trailers, pallets, cargo vans, lift vans, or similar shipping containers not considered “shipped” in terms of the regulations in this part, when they are moving, either loaded or empty, without transfer of ownership or title, in their capacity as carriers of goods or as instruments of such carriers.

(w) Shipments to Army Post Office, Diplomatic Post Office, Fleet Post Office.

(x) Shipments exported under license exception Baggage (BAG) (15 CFR 740.14).

(y) The following types of shipments destined for a country listed in Country Group E:1 as set forth in Supplement No. 1 to 15 CFR part 740 are not required to be filed in the AES:

(1) Shipments of published books, software, maps, charts, pamphlets, or any other similar media available for general distribution, as described in 15 CFR 734.7 to foreign libraries, or similar institutions.

(2) Shipments to U.S. government agencies and employees that are lawfully exported under License Exception GOV (15 CFR 740.11(b)(2)(i) or (ii)) valued at $2500 or less per Schedule B Number.

(3) Personal effects as described in 15 CFR 740.14(b)(1) being lawfully exported under License Exception BAG (15 CFR 740.14).

(4) Individual gift parcels and humanitarian donations being lawfully exported under License Exception GFT (15 CFR 740.12(a) and (b)).

(5) Vessels and aircraft lawfully leaving the United States for temporary sojourn to or in a Country Group E:1 country under License Exception AVS (15 CFR 740.15).

(6) Tools of trade that will be used by a person traveling to a Country Group E:1 destination, that will be returned to the United States within one year and that are lawfully being exported to a Country Group E:1 destination under License Exception BAG (15 CFR 740.14) or License Exception TMP (15 CFR 740.9(a)).

21. Revise § 30.38 to read as follows:

§ 30.38 Exemption from the requirements for reporting complete commodity information.

Except as noted in § 30.2(a)(1)(iv), report EEI for household goods. Household goods are usual and reasonable kinds and quantities of personal property necessary and appropriate for use by the USPPI in the USPPI's dwelling in a foreign country. Household goods include, but are not limited to items such as furniture, large and small appliances, kitchenware, electronics, toys, bicycles, clothing, personal adornments, and associated containers. These goods should be for use by the USPPI, not intended for sale; and shipped under a bill of lading or an air waybill. In such cases, Schedule B or HTSUSA commodity classification codes and domestic/foreign indicator shall not be required.

22. Revise § 30.39 to read as follows:

§ 30.39 Special exemptions for shipments to the U.S. Armed Services.

Except as noted in § 30.2 (a)(1)(iv), filing of EEI is not required for any and all commodities, whether shipped commercially or through government channels, consigned to the U.S. Armed Services for their exclusive use, including shipments to armed services exchange systems. This exemption does not apply to articles that are on the USML and thus controlled by the ITAR and/or shipments that are not consigned to the U.S. Armed Services, regardless of whether they may be for their ultimate and exclusive use.

23. Amend § 30.40 by revising the introductory text and removing paragraph (d). The revision reads as follows:

§ 30.40 Special exemptions for certain shipments to U.S. government agencies and employees.

Except as noted in § 30.2(a)(1)(iv), filing EEI is not required for the following types of shipments to U.S. government agencies and employees:

* * * * *

24. Amend § 30.45 as follows:

a. Revise paragraph (a) introductory text and paragraphs (a)(2), (a)(4), (c), (d), and (f)(1) and (2); and

b. Remove paragraphs (f)(3) and (4).

The revisions read as follows:

§ 30.45 General statement of requirements for the filing of carrier manifests with proof of filing citations for the electronic submission of export information or exemption legends when Electronic Export Information filing is not required.

(a) Requirement for filing carrier manifest. Carriers transporting goods from the United States, Puerto Rico, or the U.S. Virgin Islands to foreign countries; from the United States or Puerto Rico to the U.S. Virgin Islands; or between the United States and Puerto Rico may not be granted clearance and may not depart until complete manifests or other required documentation (for ocean, air, and rail carriers) have been delivered to CBP Port Director in accordance with all applicable requirements under CBP regulations. The CBP may require any document it determines necessary to ensure compliance with U.S. export control laws, such as: bill of lading, air waybill, export shipping instructions, manifest, train consist, or other commercial loading documents. The required documents shall contain the appropriate AES proof of filing citations, covering all cargo for which the EEI is required; or exemption legends, covering cargo for which EEI need not be filed by the regulations of this part. Such annotation shall be without material change or amendment of proof of filing citations or exemption and exclusion legends as provided to the carrier by the USPPI or its authorized agent.

* * * * *

(2) Aircraft. Aircraft transporting goods shall file a complete manifest in accordance with all applicable requirements under CBP regulations. The manifest shall be filed with the CBP Port Director at the CBP port of exit. For shipments from the United States to Puerto Rico, the manifests shall be filed with the CBP Port Director at the port where the goods are unladen in Puerto Rico.

* * * * *

(4) Carriers not required to file manifests. Carriers allowed to file incomplete manifests under applicable CBP regulations are required, upon request, to present to the CBP Port Director the proof of filing citation, exemption or exclusion legends for each shipment, prior to departure of the vessel, aircraft, train, truck or other means of conveyance.

* * * * *

(c) Split shipments. When a shipment is divided by the carrier and is covered by a single EEI transmission, the split shipment procedure provided in § 30.28 shall be followed by the carrier in delivering manifests with the proof of filing citation or exemption legend to the CBP Port Director.

(d) Attachment of commercial documents. The manifest shall carry a notation that values stated are as presented on the bills of lading, cargo lists, export shipping documents or other commercial documents. The bills of lading, cargo lists, export shipping documents or other commercial documents shall be securely attached to the manifest in such a manner as to constitute one document and otherwise comply with CBP regulations.

* * * * *

(f) * * *

(1) Except as noted in § 30.4(b)(2), ocean, rail, truck and air exporting carriers shall not load cargo that does not have all proof of filing citations, exemption, exclusion legends, or postdeparture citations as provided for in Appendix D.

(2) Except as noted in § 30.4(b)(2), ocean, rail, truck and air exporting carriers are subject to the penalties provided for in Subpart H of this part if the exporting carrier;

* * * * *

25. Revise § 30.46 to read as follows:

§ 30.46 Requirements for the filing of export information by pipeline carriers.

The operator of a pipeline may transport goods to a foreign country without the prior filing of the proof of filing citations, exemption, or exclusion legends, on the condition that within four calendar days following the end of each calendar month the operator will deliver to CBP Port Director the proof of filing citations, exemption, or exclusion legends covering all exports through the pipeline to each consignee during the month.

26. Amend § 30.47 by revising paragraph (a) to read as follows:

§ 30.47 Clearance or departure of carriers under bond on incomplete manifest.

(a) For purposes of the regulations in this part, except when carriers are transporting merchandise from the United States to Puerto Rico, clearance or permission to depart may be granted to any carrier by a CBP Port Director prior to filing of a complete manifest as required under the CBP regulations or prior to filing by the carrier of all required filing citations, exclusion and/or exemption legends, provided there is a bond as specified in 19 CFR 4.75, 4.76, and 122.74. The conditions of the bond shall be that a complete manifest, where a manifest is required by the regulations in this part and all required filing citations, exclusion and/or exemption legends shall be filed by the carrier in accordance with all applicable requirements under CBP regulations.

(1) For manifests submitted electronically through the AES, the condition of the bond shall be that the manifest and all required filing citations, exclusion, and/or exemption legends shall be completed in accordance with all applicable requirements under CBP regulations.

(2) For rail carriers to Canada, the conditions of the bond shall be that the manifest and all filing citations, exclusion, and/or exemption legends shall be filed with CBP in accordance with all applicable requirements under CBP regulations.

(3) For carriers under bond on incomplete manifest, upon request, a list of filing citations, exclusion, and/or exemption legends must be presented to a CBP Export Control Officer at the port of export prior to departure by the carrier.

* * * * *

27. Amend § 30.50 by revising paragraph (b)(5) and adding paragraph (c) to read as follows:

§ 30.50 General requirements for filing import entries.

* * * * *

(b) * * *

(5) Electronic CBP Form 214 Admissions (e214).

(c) The Kimberley Process Certificates must be faxed prior to exportation to the Census Bureau on (800) 457-7328 or provided by other methods as permitted by the Census Bureau.

28. Revise § 30.52 to read as follows:

§ 30.52 Foreign Trade Zones (FTZ).

When goods are withdrawn from a FTZ for export to a foreign country, the export shall be reported in accordance with § 30.2. Foreign goods admitted into FTZs shall be reported as a general import. Statistical requirements for zone admissions are provided to the Census Bureau via CBP's Automated Broker Interface (ABI) electronic 214 (e214) program or the CBP Form 214A Application for Foreign Trade Zone Admission and/or Status Designation. Refer to CBP Web site at www.cbp.gov to download the “Foreign Trade Zone Manual” where instructions for completing the paper CBP Form 214A documents are provided in Appendix C. When goods are withdrawn for domestic consumption or entry into a bonded warehouse, the withdrawal shall be reported on CBP 7501 or through the ABI in accordance with CBP regulations. The instructions and definitions for completing the e214 are provided in 19 CFR 146. The following data items are required to be filed on the 214A, for statistical purposes:

(a) Zone Number and Location (Address)

(b) Port Code

(c) Importing Vessel and Flag/Other Carrier

(d) Export Date

(e) Import Date

(f) Zone Admission Number

(g) U.S. Port of Unlading

(h) In-bond Carrier

(i) Foreign Port of Lading

(j) Bill of Lading/AWB Number

(k) Number of Packages & Country of Origin

(l) Description of Merchandise

(m) HTSUSA Number

(n) Quantity (HTSUSA)

(o) Gross Weight

(p) Separate Value and Aggregate Charges

(q) Status Designation

29. Amend § 30.54 by revising paragraph (b) to read as follows:

§ 30.54 Special provisions for imports from Canada.

* * * * *

(b) All other imports from Canada, including certain softwood lumber products not covered in paragraph (a) of this section, will require the two letter designation of the Canadian province of origin to be reported on U.S. entry summary records. This information is required only for U.S. imports that under applicable CBP rules of origin are determined to originate in Canada. For nonmanufactured goods determined to be of Canadian origin, the province of origin is defined as the region where the exported goods were originally grown, mined, or otherwise produced. For goods of Canadian origin that are manufactured or assembled in Canada, with the exception of the certain softwood lumber products described in paragraph (a) of this section, the region of origin is that in which the final manufacture or assembly is performed prior to exporting that good to the United States. In cases where the region in which the goods were manufactured, assembled, grown, mined, or otherwise produced is unknown, the province in which the Canadian vendor is located can be reported. For those reporting on paper forms the region of origin code replaces the country of origin code on CBP Form 7501, entry summary form.

* * * * *

30. Amend § 30.71 by revising paragraph (b)(1), redesignating paragraphs (b)(2) and (3) as paragraphs (b)(3) and (4), revising the newly redesignated (b)(3) and adding new paragraph (b)(2) to read as follows:

§ 30.71 False or fraudulent reporting on or misuse of the Automated Export System.

* * * * *

(b) * * *

(1) Failure to file violations. A failure to file violation occurs if the government discovers that there is no AES record for an export transaction by the applicable period prescribed in § 30.4 of this part. Any AES record filed later than ten (10) calendar days after the due date will also be considered a failure to file regardless of whether the violation was or was not discovered by the government. A civil penalty not to exceed $10,000 may be imposed for a failure to file violation.

(2) Late filing violations. A late filing violation occurs when an AES record is filed after the applicable period prescribed in § 30.4 of this part. A civil penalty not to exceed $1,100 for each day of delinquency, but not more than $10,000 per violation, may be imposed for failure to file timely export information or reports in connection with the exportation or transportation of cargo. (See 19 CFR part 192)

(3) Filing false/misleading information, furtherance of illegal activities and penalties for other violations. A civil penalty not to exceed $10,000 per violation may be imposed for each violation of provisions of this part other than any violation encompassed by paragraph (b)(1) or (b)(2) of this section. Such penalty may be in addition to any other penalty imposed by law.

* * * * *

31. Amend § 30.74 by revising paragraphs (c)(3)(iv), (c)(3)(v), and (c)(5) and adding paragraphs (c)(3)(vi) and (c)(3)(vii) to read a follows:

§ 30.74 Voluntary self-disclosure.

* * * * *

(c) * * *

(3) * * *

(iv) The complete identities and addresses of all individuals and organizations, whether foreign or domestic, involved in the activities giving rise to the violations;

(v) A description of any mitigating circumstances;

(vi) Corrective measures taken; and

(vii) ITNs of the missed and/or corrected shipments.

* * * * *

(5) Where to make voluntary self-disclosures. With the exception of voluntary disclosures of manifest violations under § 30.47(c), the information constituting a Voluntary Self-Disclosures or any other correspondence pertaining to a Voluntary Self-Disclosures may be submitted to: Chief, Foreign Trade Division, U.S. Census Bureau, Room 6K032, Washington, DC 20233-6700, or by fax on (301) 763-8835. Additional instructions are found at www.census.gov/trade.

* * * * *

32. In Appendix B to Part 30, revise parts II and III to read as follows:

Appendix B to Part 30—AES Filing Codes

* * * * *

Part II—Export Information Codes

TP—Temporary exports of domestic merchandise

IP—Shipments of merchandise imported under a Temporary Import Bond for further manufacturing or processing

IR—Shipments of merchandise imported under a Temporary Import Bond for repair

CH—Shipments of goods donated for charity

FS—Foreign Military Sales

ZD—North American Free Trade Agreements (NAFTA) duty deferral shipments

OS—All other exports

HV—Shipments of personally owned vehicles

HH—Household and personal effects

TE—Temporary exports to be returned to the United States

TL—Merchandise leased for less than a year

IS—Shipments of merchandise imported under a Temporary Import Bond for return in the same condition

CR—Shipments moving under a carnet

GP—U.S. Government shipments

MS—Shipments consigned to the U.S. Armed Forces

GS—Shipments to U.S. Government agencies for their use

UG—Gift parcels under Bureau of Industry and Security License Exception GFT

DD—Other exemptions:

Currency

Airline tickets

Bank notes

Internal revenue stamps

State liquor stamps

Advertising literature

Shipments of temporary imports by foreign entities for their use

IW—International water shipments

CI—Impelled shipments of goods donated for relief or charity

FI—Impelled Foreign Military Sales Program

OI—All other exports (impelled)

(For Manifest Use Only by AES Carriers)

AE Shipment information filed through AES

(See §§ 30.50 through 30.58 for information on filing exemptions.)

Part III—License Codes

Department of Commerce, Bureau of Industry and Security (BIS), Licenses

C30 Licenses issued by BIS authorizing an export, reexport, or other regulated activity.

C31 SCL—Special Comprehensive License

C32 NLR—No License Required (controlled for other than or in addition to Anti-Terrorism)

C33 NLR—No License Required (All others, including Anti-Terrorism controls ONLY)

C35 LVS—Limited Value Shipments

C36 GBS—Shipments to B Countries

C37 CIV—Civil End Users

C38 TSR—Restricted Technology and Software

C39 CTP—Computers

C40 TMP—Temporary Imports, Exports, and Re-exports

C41 RPL—Servicing and Replacement of Parts and Equipment

C42 GOV—Government and International Organizations

C43 GFT—Gift Parcels and Humanitarian Donations

C44 TSU—Technology and Software—Unrestricted

C45 BAG—Baggage

C46 AVS—Aircraft and Vessels (AES not required)

C49 TAPS —Trans-Alaska Pipeline Authorization Act

C50 ENC—Encryption Commodities and Software

C51 AGR—License Exception Agricultural Commodities

C53 APP—Adjusted Peak Performance (Computers)

C54 SS-WRC—Western Red Cedar

C55 SS-Sample—Crude Oil Samples

C56 SS-SPR—Strategic Petroleum Reserves

C57 VEU—Validated End User Authorization

C58 CCD—Consumer Communication Devices

C59 STA—Strategic Trade Authorization

Department of Energy/National Nuclear Security Administration (DOE/NNSA) Codes

E01—DOE/NNSA

Nuclear Regulatory Commission (NRC) Codes

N01 NRC Form 250/250A—NRC Form 250/250A

N02 NRC General License—NRC `General' Export License

Department of State, Directorate of Defense Trade Controls (DDTC) Codes

SAG—Agreements

SCA—Canadian ITAR Exemption

S00—License Exemption Citation

S05 DSP-5—Permanent export of unclassified defense articles and services

S61 DSP-61—Temporary import of unclassified articles

S73 DSP-73—Temporary export of unclassified articles

S85 DSP-85—Temporary or permanent import or export of classified articles

S94 DSP-94—Foreign Military Sales

Department of Treasury, Office of Foreign Assets Control (OFAC) Codes

T10—OFAC Specific License

T11—OFAC General License

T12—Kimberley Process Certificate Number

Other License Types

OPA—Other Partnership Agency License

For export license exemptions under International Traffic in Arms Regulations, refer to 22 CFR 120-130 of the ITAR for the list of export license exemptions.

33. Revise Appendix C to Part 30 to read as follows:

Appendix C to Part 30—Summary of Exemptions and Exclusions From EEI Filing

A. Except as noted in § 30.2 (a)(1)(iv), filing EEI is not required for the following types of shipments:¹

¹ Exemption from the requirements for reporting complete commodity information is covered in § 30.38; Special exemptions for shipments to the U.S. Armed Services are covered in § 30.39; and special exemptions for certain shipments to U.S. Government agencies and employees are covered in § 30.40.

1. Exemption for shipments destined to Canada (§ 30.36).

2. Valued $2,500 or less per Schedule B/HTSUSA classification for commodities shipped from one USPPI to one consignee on a single carrier (§ 30.37(a)).

3. Tools of the trade and their containers that are usual and reasonable kinds and quantities of commodities and software intended for use by individual USPPIs or by employees or representatives of the exporting company in furthering the enterprises and undertakings of the USPPI abroad (§ 30.37(b)).

4. Shipments from one point in the United States to another point in the United States by routes passing through Canada or Mexico (§ 30.37(c)).

5. Shipments from one point in Canada or Mexico to another point in the same country by routes through the United States (§ 30.37(d)).

6. Exports of technology and software as defined in 15 CFR part 772 of the EAR that do not require an export license. However, EEI is required for mass-market software (§ 30.37(f)).

7. Shipments of books, maps, charts, pamphlets, and similar articles to foreign libraries, government establishments, or similar institutions (§ 30.37(g)).

8. Shipments as authorized under License Exception GFT for gift parcels and humanitarian donations (15 CFR 740.12(a) and (b)); § 30.37(h).

9. Diplomatic pouches and their contents (§ 30.37(i)).

10. Human remains and accompanying appropriate receptacles and flowers (§ 30.37(j)).

11. Shipments of interplant correspondence, executed invoices and other documents, and other shipments of company business records from a U.S. firm to its subsidiary or affiliate. This excludes highly technical plans, correspondence, etc. that could be licensed (§ 30.37(k)).

12. Shipments of pets as baggage (§ 30.37(l)).

13. Carrier's stores, not shipped under a bill of lading or an air waybill, supplies and equipment, including usual and reasonable kinds and quantities of bunker fuel, deck engine and steward department stores, provisions and supplies, medicinal and surgical supplies, food stores, slop chest articles, and saloon stores or supplies for use or consumption on board and not intended for unlading in a foreign country (§ 30.37(m)).

14. Dunnage not shipped under a bill of lading or an air waybill, of usual and reasonable kinds and quantities not intended for unlading in a foreign country (§ 30.37(n)).

15. Shipments of aircraft parts and equipment; food, saloon, slop chest, and related stores; and provisions and supplies for use on aircraft by a U.S. airline. (EAR license exception (AVS) for aircraft and vessels 15 CFR 740.15(c); § 30.37(o)).

16. Baggage and personal effects, accompanied or unaccompanied, of persons leaving the United States including members of crews on vessels and aircraft, when they are not shipped as cargo under a bill of lading or an air waybill or other commercial loading documents and do not require an export license (§ 30.37(p)).

17. Issued banknotes and securities and coins in circulation exported as evidence of financial claims. The EEI must be filed for unissued bank notes and securities and coins not in circulation (such as bank notes printed in the United States and exported in fulfillment of the printing contract or as part of collections), which should be reported at their commercial or current value (§ 30.37(s)).

18. Documents used in international transactions, documents moving out of the United States to facilitate international transactions including airline tickets, internal revenue stamps, liquor stamps, and advertising literature. Export of such documents in fulfillment of a contract for their production, however, are not exempt and must be reported at the transaction value for their production (§ 30.37(t)).

19. Exports of technical data and defense service exemptions as defined in 22 CFR 123.22(b)(3)(iii) of the ITAR (§ 30.37(u)).

20. Vessels, locomotives, aircraft, rail cars, trucks, other vehicles, trailers, pallets, cargo vans, lift vans, or similar shipping containers not considered “shipped” in terms of the regulations in this part, when they are moving, either loaded or empty, without transfer of ownership or title, in their capacity as carriers of goods or as instruments of such carriers, and EEI filing is not required. (§ 30.37(v)).

21. Shipments to APO/DPO/FPO (§ 30.37(w))

22. Shipments exported under license exception BAG (§ 30.37(x))

23. Certain shipments destined to Country Group E:1 (§ 30.37(y))

B. The following types of transactions are outside the scope of the FTR and shall be excluded from EEI filing:

1. Goods shipped under CBP bond through the United States, Puerto Rico, or the U.S. Virgin Islands from one foreign country or area to another where such goods do not enter the consumption channels of the United States.

2. Except Puerto Rico and U.S. Virgin Islands, goods shipped from the U.S. territories, and goods shipped between the United States and these territories do not require EEI filing. However, goods transiting U.S. territories to foreign destinations require EEI filing.

3. Electronic transmissions and intangible transfers. (See Subpart B of this part for export control requirements for these types of transactions.)

4. Goods shipped to Guantanamo Bay Naval Base in Cuba from the United States, Puerto Rico, or the U.S. Virgin Islands and from Guantanamo Bay Naval Base to the United States, Puerto Rico, or the U.S. Virgin Islands. (See § 30.39 for filing requirements for shipments exported to the U.S. Armed Services.)

5. Goods licensed by a U.S. Federal Government agency where the country of ultimate destination is the United States or goods destined to international waters where the person(s) or entity assuming control of the item(s) is a citizen or permanent resident alien of the United States or a juridical entity organized under the laws of the United States or a jurisdiction within the United States.

35. Revise Appendix D to Part 30 to read as follows:

Appendix D to Part 30—AES Filing Citation and Exemption Legends

I. USML Proof of Filing Citation | AES ITN; Example: AES X20100101987654.
II. AES Proof of Filing Citation subpart A § 30.7 | AES ITN; Example: AES X20100101987654.
III. AES Postdeparture Citation—USPPI; USPPI is filing the EEI | AESPOST USPPI EIN mm/dd/yyyy; Example: AESPOST 12345678912 01/01/2010.
IV. Postdeparture Citation—Agent; Agent is filing the EEI | AESPOST USPPI EIN—Filer ID mm/dd/yyyy; Example: AESPOST 12345678912—987654321 01/01/2010.
V. AES Downtime Citation—Use only when AES or AESDirect is unavailable | AESDOWN Filer ID mm/dd/yyyy; Example: AESDOWN 123456789 01/01/2010.
VI. Exemption for Shipments to Canada | NOEEI § 30.36.
VII. Exemption for Low-Value Shipments | NOEEI § 30.37(a).
VIII. Miscellaneous Exemption Statements are found in 15 CFR 30 Subpart D § 30.37(b) through § 30.37(y) | NOEEI § 30.37 (site corresponding alphabet).
IX. Special Exemption for Shipments to the U.S. Armed Forces | NOEEI § 30.39.
X. Special Exemptions for Certain Shipments to U.S. Government Agencies and Employees (Exemption Statements are found in 15 CFR 30 Subpart D § 30.40(a) through § 30.40(d) | NOEEI § 30.40 (site corresponding alphabet).
XI. Split Shipments. Split Shipments should be referenced as such on the manifest in accordance with provisions contained in § 30.28, Split Shipments. The notation should be easily identifiable on the manifest. It is preferable to include a reference to a split shipment in the exemption statements cited in the example, the notation SS should be included at the end of the appropriate exemption statement | AES ITN SS; Example: AES X20100101987654 SS.
XII. Proof of filing citations by pipeline | NOEEI § 30.8(b).

36. Revise Appendix E to Part 30 to read as follows:

Appendix E to Part 30—FTSR to FTR Concordance

FTSR | FTSR Regulatory topic | FTR | FTR Regulatory topic
Subpart A—General Requirements—USPPI
30.1 | General statement of requirement for Shipper's Export Declarations (SEDs) | 30.2 | General requirements for filing Electronic Export Information (EEI).
30.1(a) | General requirements for filing SEDs |  | General requirements for filing EEI.
30.1(b) | General requirements for reporting regarding method of transportation |  | NA.
30.1(c) | AES as an alternative to SED reporting |  | NA.
30.1(d) | Electronic transmissions and intangible transfers | 30.2 (d)(3) | Exclusions from filing EEI.
30.2 | Related export control requirements | 30.15 | Export control and licensing requirements introduction.
|  | 30.16 | EAR requirements for export information on shipments from U.S. Possessions to foreign destinations or areas.
|  | 30.17 | Customs and Border Protection Regulations.
30.3 | Shipper's Export Declaration forms |  | NA.
30.4 | Preparation and signature of Shipper's Export Declarations (SED) | 30.3 | Electronic Export Information filer requirements, parties to export transactions, responsibilities of parties to export transactions.
30.4(a) | General requirements (SED) | 30.3(a) | General Requirements.
|  | 30.3(b) | Parties to the export transaction.
30.4(b) | Responsibilities of parties in export transactions | 30.3(c) | General responsibilities of parties in export transactions.
|  | 30.3(d) | Filer responsibilities.
30.4(c) | Responsibilities of parties in a routed export transactions | 30.3(e) | Responsibilities of parties in a routed export transaction.
30.4(d) | Information on the Shipper's Export Declaration (SED) or Automated Export System (AES) record | 30.3(a) | General requirements.
30.4(e) | Authorizing a forwarding or other agent | 30.3(f) | Authorizing an agent.
30.4(f) | Format requirements for SEDs |  | NA.
30.5 | Number and copies of Shipper's Export Declaration required |  | NA.
30.6 | Requirements as to separate Shipper's Export Declarations |  | NA.
30.7 | Information required on Shipper's Export Declarations |  | NA.
30.8 | Additional information required on Shipper's Export Declaration for In-Transit Goods (ENG Form 7513) |  | NA.
30.9 | Requirements for separation and alignment of items on Shipper's Export Declarations |  | NA.
30.10 | Continuation sheets for Shipper's Export Declaration |  | NA.
30.11 | Authority to require production of document | 30.10(b) | Authority to require production of documents and retaining electronic data.
30.12 | Time and place for presenting the SED, exemption legends or proof of filing citations | 30.4 | Electronic export information filing procedures, deadlines, and certification statements.
|  | 30.8 | Time and place for presenting proof of filing citations, postdeparture filing citations, AES downtime citations, and exemption legends.
30.15 | Procedure for presentation of declarations covering shipments from an interior point |  | NA.
30.16 | Corrections to Shipper's Export Declarations | 30.9 | Transmitting and correcting Electronic Export Information.
Subpart B—General Requirements—Exporting Carriers
30.20 | General statement of requirement for the filing of manifests | 30.45 | General statement of requirements for the filing of carrier manifests with proof of filing citations.
30.20(a) | Carriers transporting merchandise from the United States, Puerto Rico, or U.S. territories to foreign countries | 30.45(a) | Requirements for filing carrier manifest.
30.20(b) | For carriers transporting merchandise from the United States to Puerto Rico | 30.45(a) | Requirements for filing carrier manifest.
30.20(c) | Except as otherwise specifically provided, declarations should not be filed at the place where the shipment originates | 30.45(a) | Requirements for filing carrier manifest.
30.20(d) | For purposes of these regulations, the port of exportation is defined as | 30.1(c) | Definition used with EEI.
30.21 | Requirements for the filing of Manifests | 30.45 | General statement of requirements for the filing of carrier manifests with proof of filing citations for the electronic submission of export information or exemption legends when EEI is not required.
30.21(a) | Vessel | 30.45(a)(1) | Vessel.
30.21(b) | Aircraft | 30.45(a)(2) | Aircraft.
30.21(c) | Rail Carrier | 30.45(a)(3) | Rail Carrier.
30.21(d) | Carriers not required to file manifests | 30.45(a)(4) | Carriers not required to file manifests.
30.22(a) | Requirements for the filing of SEDs or AES exemption legends and AES proof of filing citations by departing carriers | 30.8 | Time and place for presenting proof of filing citation, and exemption legends.
30.22(b) | The exporting carrier shall be responsible for the accuracy of the following items of information |  | NA.
30.22(c) | Except as provided in paragraph (d) of this section, when a transportation company finds, prior to the filing of declarations and manifest as provided in paragraph (a) of this section, that due to circumstances beyond the control of the transportation company or to inadvertence, a portion of the merchandise covered by an individual Shipper's Export Declaration has not been exported on the intended carrier |  | NA.
30.22(d) | When a shipment by air covered by a single Shipper's Export Declaration is divided by the transportation company and exported in more than one aircraft of the transportation | 30.45(c) | Split shipments.
30.22(e) | Exporting carriers are authorized to amend incorrect shipping weights reported on Shipper's Export Declarations |  | NA.
30.23 | Requirements for the filing of Shipper's Export Declarations by pipeline carriers. | 30.46 | Requirements for the filing of export information by pipeline carriers.
30.24 | Clearance or departure of carriers under bond on incomplete manifest on Shipper's Export Declarations | 30.47 | Clearance or departure of carriers under bond on incomplete manifests.
Subpart C—Special Provisions Applicable Under Particular Circumstances
30.30 | Values for certain types of transactions | 30.25 | Values for certain types of transactions.
30.31 | Identification of certain nonstatistical and other unusual transactions | 30.29 | Reporting of repairs and replacements.
30.31(a) | Merchandise exported for repair only, and other temporary exports | 30.29(a) | The return of goods previously imported for repair.
30.31(b) | The return of merchandise previously imported for repair only | 30.29(b) | Goods that are covered under warranty and other temporary exports.
30.31(c) | Shipments of material in connection with construction, maintenance, and related work being done on projects for the U.S. Armed Forces |  | NA.
30.33 | Vessels, planes, cargo vans, and other carriers and containers sold foreign | 30.26 | Reporting of vessels, aircraft, cargo vans, and other carriers and containers.
30.34 | Return of exported cargo to the United States prior to reaching its final destination | 30.27 | Return of exported cargo to the United States prior to reaching its final destination.
30.37 | Exceptions from the requirement for reporting complete commodity detail on the Shipper's Export Declaration | 30.38 | Exemption from the requirements for reporting complete commodity information.
30.37(a) | Where it can be determined that particular types of U.S. Government shipments, or shipments for government projects, are of such nature that they should not be included in the export statistics | 30.39 | Special exemptions for shipments to the U.S. Armed Services. (Note, this section does not specifically address construction materials nor related work being done on projects).
30.37(b) | Special exemptions to specific portions of the requirements of § 30.7 with respect to the reporting of detailed information |  | NA.
30.39 | Authorization for reporting statistical information other than by means of individual Shipper's Export Declarations filed for each shipment |  | NA.
30.40 | Single declaration for multiple consignees |  | NA.
30.41 | “Split shipments” by air | 30.28 | Split shipments.
Subpart D—Exemptions from the requirements for the Filing of Shipper's Export Declarations
30.50 | Procedure for shipments exempt from the requirements for Shipper's Export Declarations | 30.35 | Procedure for shipments exempt from filing requirements.
30.51 | Government shipments not generally exempt | 30.39 | Special exemption for shipments to the U.S. Armed Services.
30.52 | Special exemptions for shipments to the U.S. Armed Services | 30.39 | Special exemptions for shipments to the U.S. Armed Services.
30.53 | Special exemptions for certain shipments to U.S. Government agencies and employees | 30.40 | Special exemptions for certain shipments to U.S. Government agencies and employees.
30.53(e) | All commodities shipped to and for the exclusive use of the Panama Canal Zone Government or the Panama Canal Company |  | NA.
30.55 | Miscellaneous exemptions | 30.37 | Miscellaneous exemptions.
30.55(a) | Diplomatic pouches and their contents | 30.37(i) | Diplomatic pouches and their contents.
30.55(b) | Human remains and accompanying appropriate receptacles and flowers | 30.37(j) | Human remains and accompanying appropriate receptacles and flowers.
30.55(c) | Shipments from one point in the United States to another thereof by routes passing through Mexico | 30.37(c) | Shipments from one point in the United States to another point in the United States by routes passing through Canada or Mexico.
30.55(d) | Shipments from one point in Mexico to another point thereof by routes through the United States | 30.37(d) | Shipments from one point in Canada or Mexico to another point in the same country by routes through the United States.
30.55(e) | Shipments, other than by vessel, or merchandise for which no validated export licenses are required, transported inbond through the United States, and exported from another U.S. port, or transshipped and exported directly from the port of arrival | 30.2(d)(1) | Shipments, transported in-bond through the United States, and exported from another U.S. port, or transshipped and exported directly from the port of arrival.
30.55(f) | Shipments to foreign libraries, government establishments, or similar institutions, as provided in § 30.53(d) | 30.37(g) | Shipments to foreign libraries, government establishments, or similar institutions, as provided in § 30.40(d).
30.55(g) | Shipments of single gift parcels as authorized by the Bureau of Industry and Security under License Exception GFT, see 15 CFR 740.12 of the EAR | 30.37(h) | Shipments authorized by License Exception GFT for gift parcels, humanitarian donations.
30.55(h) | Except as noted in paragraph (h)(2) of this section, exports of commodities where the value of the commodities shipped from one exporter to one consignee on a single exporting carrier, classified under an individual Schedule B number, is $2,500 or less | 30.37(a) | Except as noted in § 30.2(a)(1)(iv), exports of commodities where the value of the commodities shipped USPPI to one consignee on a single exporting carrier, classified under an individual Schedule B or HTSUSA commodity classification code, is $2,500 or less.
30.55(i) | Shipments of interplant correspondence, executed invoices, and other documents and other shipments of company business records from a U.S. firm to its subsidiary or affiliate | 30.37(k) | Shipments of interplant correspondence, executed invoices, and other documents and other shipments of company business records from a U.S. firm to its subsidiary or affiliate.
30.55(j) | Shipments of pets as baggage, accompanied or unaccompanied, of persons leaving the United States, including members of crews on vessels and aircraft | 30.37(l) | Shipments of pets as baggage, accompanied or unaccompanied, of persons leaving the United States, including members of crews on vessels and aircraft.
30.55(k) | Shipments for use in connection with NASA tracking systems under Office of Export Administration Project License DL-5355-S |  | NA.
30.55(l) | Shipments of aircraft parts and equipment, and food, saloon, slop chest, and related stores, provisions, and supplies for use on aircraft by a U.S. airline to its own installations, aircraft, and agent aboard, under Department of Commerce, Office of Export Administration General License, RCS |  | NA.
30.55(m) | Shipments for use in connection with NOAA operations under the Office of Export Administration General License G-NOAA |  | NA.
30.55(n) | Exports of technology and software as defined in 15 CFR 772 of the EAR that do not require an export license | 30.37(f) | Exports of technology and software as defined in 15 CFR 772 of the EAR that do not require an export license.
30.55(o) | Intangible exports of software and technology, such as downloaded software and technical data, including technology and software that requires an export license and mass market software exported electronically | 30.2(d)(3) | Intangible exports of software and technology, such as downloaded software and technical data, including technology and software that requires an export license and mass market software exported electronically.
30.56 | Conditional Exemptions | 30.37 | Miscellaneous exemptions.
30.56(a) | Baggage and personal effects | 30.38 | Exemption from the requirements for reporting complete commodity information.
30.56(b) | Tools of trade. | 30.37(b) | Tools of trade
30.56(c) | Carriers' stores. | 30.37(m) | Carriers' stores
30.56(d) | Dunnage. | 30.37(n) | Dunnage
30.57 | Information on export declarations for shipments of types of goods covered by § 30.56 not conditionally exempt |  | NA.
30.58 | Exemption for shipments from the United States to Canada | 30.36 | Exemption for shipments destined to Canada.
Subpart E—Electronic Filing Requirements—Shipper's Export Information
30.60 | General requirements for filing export and manifest data electronically using the Automated Export System (AES) | 30.2 | General requirements for filing Electronic Export Information.
30.60(a) | Participation |  | NA.
30.60(b) | Letter of Intent | 30.5(a)(1) | Postdeparture filing application.
30.60(c) | General filing and transmission requirements | 30.4 | NA.
30.60(d) | General responsibilities of exporters, filing agents, and sea carriers | 30.3 | Electronic Export Information filer requirements, parties to export transactions, and responsibilities of parties to export transactions.
30.61 | Electronic filing options | 30.4 | Electronic Export Information filing procedure, deadlines, and certification statement.
30.62 | AES Certification, qualifications, and standards | 30.5 | EEI filing application and certification processes and standards.
30.63 | Information required to be reported electronically through AES (data elements) | 30.6 | Electronic Export Information data elements.
30.64 | Transmitting and correcting AES information | 30.9 | Transmitting and correcting Electronic Export Information.
30.65 | Annotating the proper exemption legends or proof of filing citations for shipments transmitted electronically | 30.7 | Annotating the bill of lading, air waybill, and other commercial loading documents with the proper proof of filing citations, approved postdeparture filing citations, downtime filing citation, or exemption legends.
30.66 | Recordkeeping and requirements | 30.5(f) | Support.
30.66 | Support, documentation, and recordkeeping requirements | 30.10 | Retention of export information and the authority to require production of documents.
Subpart F—General Requirements—Importers
30.70 | Statistical information required on import entries | 30.50 | General requirements for filing import entries.
|  | 30.51 | Statistical information required for import entries.
30.80 | Imports from Canada | 30.54 | Special provisions for imports from Canada.
30.81 | Imports of merchandise into Guam |  | NA.
30.82 | Identification of U.S. merchandise returned for repair and reexport | 30.53 | Import of goods returned for repair.
30.83 | Statistical copy of mail and informal entries |  | NA.
Subpart H—General Administrative Provisions
30.90 | Confidential information, import entries, and withdrawals | 30.55 | Confidentiality information, import entries, and withdrawals.
30.91 | Confidential information, Shipper's Export Declarations | 30.60 | Confidentiality of Electronic Export Information.
30.92 | Statistical classification schedules | 30.61 | Statistical classification schedules.
30.93 | Emergency exceptions | 30.62 | Emergency exceptions.
30.94 | Instructions to CBP |  | NA.
30.95 | Penalties for violations |  | Subpart H.
30.95(a) | Exports (reexports) of rough diamonds | 30.70 | Violation of the Clean Diamond Trade Act.
30.95(b) | Exports of other than rough diamonds | 30.71 | False or fraudulent reporting.
30.99 | OMB control numbers assigned pursuant to the Paperwork Reduction Act | 30.63 | Office of Management and Budget control numbers assigned pursuant to the Paperwork Reduction Act.

34. Revise Appendix F to Part 30 to read as follows:

Appendix F to Part 30—FTR to FTSR Concordance

FTR | FTR Regulatory topic | FTSR | FTSR Regulatory topic
Subpart A—General Requirements
30.1 | Purpose and definitions | NA | NA.
30.2 | General requirements for filing Electronic Export Information | 30.1 | General statement of requirement for Shipper's Export Declarations.
30.2(a) | Filing Requirements |  | Filing Requirements.
30.2(b) | General requirements |  | NA.
30.2(c) | Certification and filing requirements |  | NA.
30.2(d) | Exclusions from filing EEI |  | NA.
30.2(e) | Penalties |  | NA.
30.3 | Electronic Export Information filer requirements, parties to export transactions, and responsibilities of parties to export transactions | 30.4 | Preparation and signature of Shipper's Export Declaration.
30.4 | Electronic Export Information filing procedures, deadlines, and certification statements | 30.61 | Electronic filing options.
30.4(a) | EEI transmitted predeparture | 30.61(a) | EEI transmitted predeparture.
30.4(b) | Filing deadlines for EEI transmitted predeparture |  | NA.
30.4(c) | EEI transmitted postdeparture | 30.61(b) | EEI transmitted postdeparture.
30.4(d) | Proof of filing citation or exemption legend | 30.12(d) | Exports file via AES.
30.5 | Electronic Export Information filing application and certification processes and standards | 30.62 | AES Certification, qualifications, and standards.
30.5(a) | AES application process | 30.60(b) | AES Participant Application.
30.5(b) | Certification process | 30.66 | Record keeping and requirements.
30.5(c) | Postdeparture filing approval process |  |
30.5(d) | Electronic Export Information filing standards |  |
30.5(e) | Monitoring the filing of Electronic Export Information |  |
30.5(f) | Support |  |
30.6 | Electronic Export Information data elements | 30.63 | Information required to be reported electronically through AES (data elements).
30.7 | Annotating the bill of lading | 30.65 | Annotating the proper exemption legends or proof of filing citations.
30.8 | Time and place for presenting proof of filing citations, postdeparture filing citations, downtime filing citation, or exemption legends | 30.12 | Time and place for presenting the SED, exemption legends, or proof of filing citations.
30.9 | Transmitting and correcting Electronic Export Information | 30.64 | Transmitting and correcting AES information.
|  | 30.16 | Corrections to Shipper's Export Declarations.
30.10(a) | Retention of Export information | 30.66 | Support, documentation and recordkeeping, and documentation requirements.
30.10(b) | Authority to require production of documents | 30.11 | Authority to require production of documents.
Subpart B—Export Control and Licensing Requirements
30.15 | Introduction | 30.2 | Related export control requirements.
30.16 | Bureau of Industry and Security regulations | 30.2 | Related export control requirements.
30.17 | U.S. Customs and Border Protection regulations | 30.2 | Related export control requirements.
30.18 | Department of State regulations | 30.2 | Related export control requirements.
30.19 | Other Federal agency regulations | 30.2 | Related export control requirements.
Subpart C—Special Provisions and Specific-Type Transactions
30.25 | Values for certain types of transactions | 30.30 | Values for certain types of transactions.
30.26 | Reporting of vessels, aircraft, cargo vans, and other carriers and containers | 30.33 | Vessels, planes, cargo vans, and other carriers and containers sold foreign.
30.27 | Return of exported cargo to the United States prior to reaching its final destination | 30.34 | Return of exported cargo to the United States prior to reaching its final destination.
30.28 | Split shipments | 30.41 | “Split shipments” by air.
30.29 | Reporting of repairs and replacements | 30.31 | Identification of certain nonstatistical and other unusual transactions.
Subpart D—Exemptions from the Requirements for the Filing of Electronic Export Information
30.35 | Procedure for shipments exempt from filing requirements | 30.50 | Procedure for shipments exempt from the requirements for SEDs.
30.36 | Exemption for shipments destined to Canada | 30.58 | Exemption for shipments from the United States to Canada.
30.37 | Miscellaneous exemptions | 30.55 | Miscellaneous exemptions.
|  | 30.55 | Conditional exemptions.
30.37(a) | Except as noted in § 30.2(a)(1)(iv), exports of commodities where the value * * * is $2,500 or less | 30.55(h) | Except as noted in paragraph h(2) of this section, exports of commodities where the value * * * is $2,500 or less.
30.37(b) | Tools of trade | 30.56(b) | Tools of trade
30.37(c) | Shipments from one point in the United States to another point in the United States by routes passing through Canada or Mexico | 30.55(c) | Shipments from one point in the United States to another thereof by routes passing through Mexico.
|  | 30.58(a) | * * * this exemption also applies to shipments from one point in the United States or Canada to another point thereof * * *
30.37(d) | Shipments from one point in Canada or Mexico to another point thereof by routes through the United States | 30.55(d) | Shipments from one point in Canada or Mexico to another point in the same country by routes through the United States.
|  | 30.58(a) | * * * this exemption also applies to shipments from one point in the United States or Canada to another point thereof * * *
30.37(e) | Reserved |  | NA.
30.37(f) | Exports of technology and software as defined in 15 CFR of the EAR that do not require an export license | 30.55(n) | Exports of technology and software as defined in 15 CFR 772 of the EAR that do not require an export license
30.37(g) | Shipments to foreign libraries, government establishments, or similar institutions | 30.55(f) | Shipments to foreign libraries, government establishments, or similar institutions, as provided in § 30.53(d).
30.37(h) | Shipments as authorized under License Exception GFT for gift parcels and humanitarian donations | 30.55(g) | Shipments of single gift parcels as authorized by the Bureau of Industry and Security under license exception GFT.
30.37(i) | Diplomatic pouches and their contents | 30.55(a) | Diplomatic pouches and their contents.
30.37(j) | Human remains and accompanying appropriate receptacles and flowers | 30.55(b) | Human remains and accompanying appropriate receptacles and flowers.
30.37(k) | Shipments of interplant correspondence, executed invoices and other documents, and other shipments of company business records from a U.S. firm to its subsidiary or affiliate | 30.55(i) | Shipments of interplant correspondence, executed invoices and other documents, and other shipments of company business records from a U.S. firm to its subsidiary or affiliate.
30.37(l) | Shipments of pets as baggage, accompanied or unaccompanied, of persons leaving the United States, including members of crews on vessels and aircraft | 30.55(j) | Shipments of pets as baggage, accompanied or unaccompanied, of persons leaving the United States, including members of crews on vessels and aircraft.
30.37(m) | Carriers' stores * * * | 30.56(c) | Carriers' stores * * *
30.37(n) | Dunnage * * * | 30.56(d) | Dunnage * * *
30.37(o) | Shipments of aircraft parts and equipment; food, saloon, slop chest, and related stores, * * * | 30.55(l) | Shipments of aircraft parts and equipment and food, saloon, slop chest, and related stores, * * *
30.37(p) | Baggage and personal effects not shipped as cargo under a bill of lading or an air waybill and not requiring an export license * * * | 30.56(a) | Baggage and personal effects not shipped as cargo under a bill of lading or an air waybill and not requiring an export license * * *
30.37(q) | Reserved |  | NA.
30.37(r) | Reserved |  | NA.
30.37(s) | Issued bank notes and securities and coins in circulation exported as evidence of financial claims |  | NA.
30.37(t) | Documents used in international transaction * * * |  | NA.
30.37(u) | Exports of technical data and defense service exemptions |  | NA.
30.37(v) | Vessels, aircraft, cargo vans and other carriers and containers |  | NA.
30.37(w) | Shipments to Army Post Office, Diplomatic Post Office, Fleet Post Office |  | NA.
30.37(x) | Shipments exported under license exception Baggage (BAG) |  | NA.
30.37(y)(1) | Shipments of books, maps, charts, pamphlets, and similar articles to foreign libraries, government establishments, or similar institutions. |  | NA.
30.37(y)(2) | Shipments to U.S. government agencies and employees that are lawfully exported under License Exception GOV of the Export Administration Regulations (15 CFR § 740.11(b)(2)(i) or (ii)) valued at $2500 or less per Schedule B Number |  | NA.
30.37(y)(3) | Personal effects as described in 15 CFR § 740.14(b)(1) being lawfully exported under License Exception BAG of the Export Administration Regulations (15 CFR § 740.14) |  | NA.
30.37(y)(4) | Individual gift parcels and humanitarian donations being lawfully exported under License Exception GFT of the Export Administration Regulations (15 CFR § 740.12(a) and (b)) |  | NA.
30.37(y)(5) | Vessels and aircraft lawfully leaving the United States for temporary sojourn to or in a Country Group E:1 country |  | NA.
30.37(y)(6) | Tools of trade that will be used by a person traveling to a Country Group E destination, that will be returned to the United States within one year and that are lawfully being exported to a Country Group E:1 destination under License Exception BAGGAGE (15 CFR 740.14 or License Exception TMP (15 CFR 740.9(a)). |  | NA.
30.38 | Exemption from the requirements for reporting complete commodity information | 30.56 | Conditional exemptions.
30.38(a) | Usual and reasonable kinds and quantities of wearing apparel, articles of personal adornment, toilet articles, medicinal supplies, food, souvenirs, games, and similar personal effects and their containers | 30.56(a)(1) | Usual and reasonable kinds and quantities of wearing apparel, articles of personal adornment, toilet articles, medicinal supplies, food, souvenirs, games, and similar personal effects and their containers.
30.38(b) | Usual and reasonable kinds and quantities of furniture, household effects, household furnishings, and their containers | 30.56(a)(2) | Usual and reasonable kinds and quantities of furniture, household effects, household furnishings, and their containers.
30.38(c) | Usual and reasonable kinds and quantities of vehicles, such as passenger cars, station wagons, trucks, * * * | 30.56(a)(3) | Usual and reasonable kinds and quantities of vehicles, such as passenger cars, station wagons, trucks, * * *
30.39 | Special exemptions for shipments to the U.S. Armed Services | 30.52 | Special exemptions for shipments to the U.S. Armed Services.
30.40 | Special exemptions for certain shipments to U.S. Government agencies and employees | 30.53 | Special exemptions for certain shipments to U.S. Government agencies and employees.
Subpart E—General Carrier and Manifest Requirements
30.45 | General statement of requirements for the filing of carrier manifests with proof of filing citations | 30.20 | General statement of requirements for the filing of manifests * * *
|  | 30.21 | Requirements for the filing of manifests.
|  | 30.22 | Requirements for filing of Shipper's Export Declarations by departing carriers.
30.46 | Requirements for the filing of export information by pipeline carriers | 30.23 | Requirement for the filing of Shipper's Export Declarations by pipeline carriers.
30.47 | Clearance or departure of carriers under bond on incomplete manifest | 30.24 | Clearance or departure of carriers under bond on incomplete manifest * * *
Subpart F—Import Requirements
30.50 | General requirements for filing import entries | 30.70 | Statistical information required on import entries.
30.51 | Statistical information required for import entries | 30.70 | Statistical information required for import entries.
30.52 | Foreign Trade Zones |  | NA.
30.53 | Import of goods returned for repair | 30.82 | Identification of U.S. merchandise returned for repair and reexport.
30.54 | Special provisions for imports from Canada | 30.80 | Imports from Canada.
30.55 | Confidential information, import entries, and withdrawals | 30.90 | Confidential information import entries, and withdrawals.
Subpart G—General Administrative Provisions
30.60 | Confidentiality of Electronic Export Information | 30.91 | Confidential information, Shipper's Export Declaration.
30.61 | Statistical classification schedules | 30.92 | Statistical classification schedules.
30.62 | Emergency exceptions | 30.93 | Emergency exceptions.
30.63 | Office of Management and Budget control numbers assigned pursuant to the Paperwork Reduction Act | 30.99 | OMB control numbers assigned pursuant to the Paperwork Reduction Act.
Subpart H—Penalties
30.70 | Violation of the Clean Diamond Trade Act | 30.95(a) | Penalties for violations for export (reexport) of rough diamonds.
30.71 | False or fraudulent reporting on or misuse of the Automated Export System | 30.95(b) | Penalties for violations of exports other than diamonds.
30.71(a) | Criminal penalties |  |
30.71(b) | Civil penalties |  |
30.72 | Civil penalty procedures |  | NA.
30.73 | Enforcement |  | NA.
30.73(a) | Department of Commerce
30.73(b) | Department of Homeland Security
30.74 | Voluntary self-disclosure |  | NA.
30.75-30.99 | [Reserved]

Dated: March 1, 2013.
Thomas L. Mesenbourg Jr.,
Acting Director, Bureau of the Census.

[FR Doc. 2013-05435 Filed 3-13-13; 8:45 am]

BILLING CODE 3510-07-P